DEPARTMENT OF THE INTERIOR

Fish and Wildlife Service

50 CFR Part 17

Endangered and Threatened Wildlife and Plants; Review of Species That Are Candidates or Proposed for Listing as Endangered or Threatened; Annual Notice of Findings on Recycled Petitions; Annual Description of Progress on Listing Actions

AGENCY: Fish and Wildlife Service, Interior.

ACTION: Notice of review.

SUMMARY: In this candidate notice of review (CNOR), we, the U.S. Fish and Wildlife Service (Service), present an updated list of plant and animal species native to the United States that we regard as candidates or have proposed for addition to the Lists of Endangered and Threatened Wildlife and Plants under the Endangered Species Act of 1973, as amended. Identification of candidate species can assist environmental planning efforts by providing advance notice of potential listings, allowing resource managers to alleviate threats and thereby possibly remove the need to list species as endangered or threatened. Even if we subsequently list a candidate species, the early notice provided here could result in fewer restrictions on activities by prompting candidate conservation measures to alleviate threats to the species.

We request additional status information that may be available for the identified candidate species and information on species that we should include as candidates in future updates of this list. We will consider this information in preparing listing documents and future revisions to the notice of review. This information will help us in monitoring changes in the status of candidate species and in conserving candidate species.

We announce the availability of Candidate and Listing Priority Assignment Forms (candidate forms) for each candidate species. These documents describe the status and threats that we evaluated in order to assign a listing priority number to each species. We also announce our findings on recycled petitions and describe our progress in revising the Lists of Endangered and Threatened Wildlife and Plants during the period October 30, 2001 to May 30, 2002.

DATES: We will accept comments on the candidate notice of review at any time.

ADDRESSES: Submit your comments regarding a particular species to the Regional Director of the Region identified in SUPPLEMENTARY INFORMATION as having the lead responsibility for that species. You may submit comments of a more general nature to the Chief, Division of Conservation and Classification, U.S. Fish and Wildlife Service, 4401 N. Fairfax Drive, Room 420, Arlington, VA 22203 (703/358-2171). Written comments and materials received in response to this notice will be available for public inspection by appointment at the Division of Conservation and Classification (for comments of a general nature only) or at the appropriate Regional Office listed in SUPPLEMENTARY INFORMATION.

Information regarding the range, status, and habitat needs of and listing priority assignment for a particular species is available for review at the appropriate Regional Office listed below in SUPPLEMENTARY INFORMATION, at the Division of Conservation and Classification, Arlington, Virginia (see address above), or on our internet website (http://www.endangered.fws.gov).

FOR FURTHER INFORMATION CONTACT: The Endangered Species Coordinator(s) in the appropriate Regional Office(s) or Chris Nolin, Chief, Division of Conservation and Classification (703/358-2171).

SUPPLEMENTARY INFORMATION:

Candidate Notice of Review

Background

The Endangered Species Act of 1973, as amended (16 U.S.C. 1531 et seq.) (Act), requires that we identify species of wildlife and plants that are endangered or threatened, based on the best available scientific and commercial information. Through the Federal rulemaking process, we add these species to the List of Endangered and Threatened Wildlife at 50 CFR 17.11 or the List of Endangered and Threatened Plants at 50 CFR 17.12. As part of this program, we maintain a list of species that we regard as candidates for listing. A candidate is one for which we have on file sufficient information on biological vulnerability and threats to support a proposal to list as endangered or threatened but for which preparation and publication of a proposal is precluded by higher-priority listing actions. We maintain this list for a variety of reasons, including: to notify the public that these species are facing threat to their survival; to provide advance knowledge of potential listings that could affect decisions of environmental planners and developers; to solicit input from interested parties to identify those candidate species that may not require protection under the Act or additional species that may require the Act's protections; and to solicit information needed to prioritize the order in which we will propose species for listing.

Table 1 of this notice includes 260 species that we regard as candidates for addition to the Lists of Endangered and Threatened Wildlife and Plants (Lists), as well as 39 species for which we have published proposed rules to list as threatened or endangered species, most of which we identified as candidates in the October 30, 2001, Candidate Notice of Review (66 FR 54808). We encourage consideration of these species in environmental planning, such as in environmental impact analysis under the National Environmental Policy Act of 1969 (implemented at 40 CFR parts 1500-1508) and in local and statewide land use planning. Table 2 of this notice contains eight species we identified as candidates or as proposed species in the October 30, 2001, Candidate Notice of Review that we now no longer consider candidates. This includes six species we listed as threatened or endangered since October 30, 2001, and two species we removed as candidates through this notice. The Regional Offices identified as having lead responsibility for the particular species will continually revise and update the information on candidate species. We intend to publish an updated combined notice of review for animals and plants, including our findings on recycled petitions and a description of our progress on listing actions, annually in the Federal Register.

Previous Notices of Review

The Act directed the Secretary of the Smithsonian Institution to prepare a report on endangered and threatened plant species, which was published as House Document No. 94-51. We published a notice in the Federal Register on July 1, 1975 (40 FR 27823), in which we announced that we would review more than 3,000 native plant species named in the Smithsonian's report and other species added by the 1975 notice for possible addition to the List of Endangered and Threatened Plants. A new comprehensive notice of review for native plants, which took into account the earlier Smithsonian report and other accumulated information, superseded the 1975 notice on December 15, 1980 (45 FR 82479). On November 28, 1983 (48 FR 53640), a supplemental plant notice of review noted changes in the status of various species. We published complete updates of the plant notice on September 27, 1985 (50 FR 39526), February 21, 1990 (55 FR 6184), September 30, 1993 (58 FR 51144), and, as part of combined animal and plant notices, on February 28, 1996 (61 FR 7596), September 19, 1997 (62 FR 49398), October 25, 1999 (64 FR 57534), and October 30, 2001 (66 FR 54808). On January 8, 2001 (66 FR 1295), we published our recycled petition finding for one plant species that had an outstanding warranted but precluded finding.

Previous animal notices of review included a number of the animal species in the accompanying Table 1. We published earlier comprehensive reviews for vertebrate animals in the Federal Register on December 30, 1982 (47 FR 58454), and on September 18, 1985 (50 FR 37958). We published an initial comprehensive review for invertebrate animals on May 22, 1984 (49 FR 21664). We published a combined animal notice of review on January 6, 1989 (54 FR 554), and with minor corrections on August 10, 1989 (54 FR 32833). We again published comprehensive animal notices on November 21, 1991 (56 FR 58804), November 15, 1994 (59 FR 58982), and, as part of combined animal and plant notices, on February 28, 1996 (61 FR 7596), September 19, 1997 (62 FR 49398), October 25, 1999 (64 FR 57534), and October 30, 2001 (66 FR 54808). On January 8, 2001 (66 FR 1295), we published our recycled petition findings for 25 animal species that had outstanding warranted but precluded findings as well as notice of 1 candidate removal. This revised notice supersedes all previous animal, plant, and combined notices of review.

Current Notice of Review

We gather data on plants and animals native to the United States that appear to merit consideration for addition to the Lists of Endangered and Threatened Wildlife and Plants. This notice identifies those species that we currently regard as candidates for addition to the Lists. These species include, by definition, biological species; subspecies of fish, wildlife, or plants; and distinct population segments (DPSs) of vertebrate animals. In issuing this compilation, we rely on information from status surveys conducted for candidate assessment and on information from State Natural Heritage Programs, other State and Federal agencies (such as the Forest Service and the Bureau of Land Management), knowledgeable scientists, public and private natural resource interests, and comments received in response to previous notices of review.

Tables 1 and 2 are arranged alphabetically by common names under the major group headings for animals first, then alphabetically by names of genera, species, and relevant subspecies and varieties for plants. Animals are grouped by class or order. Plants are subdivided into three groups: flowering plants, conifers and cycads, and ferns and their allies. Useful synonyms and subgeneric scientific names appear in parentheses with the synonyms preceded by an equals sign. Several species that have not yet been formally described in the scientific literature are included; such species are identified by a generic or specific name (in italics) followed by “sp.” or “ssp.” We incorporate standardized common names in these notices as they become available. We sorted plants by scientific name due to the inconsistencies in common names, the inclusion of vernacular and composite subspecific names, and the fact that many plants still lack a standardized common name.

Table 1 lists all species that we regard as candidates for listing and all species proposed for listing under the Act. We emphasize that we are not proposing these candidate species for listing by this notice, but we anticipate developing and publishing proposed listing rules for these species in the future. We encourage State agencies, other Federal agencies, and other parties to give consideration to these species in environmental planning.

Species in Table 1 of this notice are assigned to several status categories, noted in the “Category” column at the left side of the table. We explain the codes for the category status column of species in Table 1 below:

PE—Species proposed for listing as endangered. Proposed species are those species for which we have published a proposed rule to list as endangered or threatened in the Federal Register (exclusive of species for which we have withdrawn or finalized the proposed rule).

PT—Species proposed for listing as threatened.

C—Candidates: Species for which we have on file sufficient information on biological vulnerability and threats to support proposals to list them as endangered or threatened. Issuance of proposed rules for these species is precluded at present by other higher priority listing actions. This category includes species for which we made a “warranted but precluded” 12-month finding on a petition to list. We made new findings on all petitions for which we previously made “warranted but precluded” findings. We identify the species for which we made a continued “warranted but precluded” finding on a recycled petition by the code “C*” in the category column (see Findings on Recycled Petitions section for additional information).

The column labeled “Priority” indicates the listing priority number (LPN) for each candidate species that we use to determine the most appropriate use of our available resources, with low numbers having the highest priority. We assign this number based on the immediacy and magnitude of threats as well as on taxonomic status. We published a complete description of our listing priority system in the Federal Register on September 21, 1983 (48 FR 43098).

The third column identifies the Regional Office to which you should direct comments or questions (see addresses at the end of the Supplementary Information section). We provided the comments received in response to the 1999 notice of review to the Region having lead responsibility for each candidate species mentioned in the comment. We will likewise consider all information provided in response to this notice of review in deciding whether to propose species for listing and when to undertake necessary listing actions. Comments received will become part of the administrative record for the species, which is maintained at the appropriate Regional Office.

Following the scientific name (fourth column) and the family designation (fifth column) is the common name (sixth column). The seventh column provides the known historical range for the species or vertebrate population (for vertebrate populations, this is the historical range for the entire species or subspecies and not just the historical range for the distinct population segment), indicated by postal code abbreviations for States and U.S. territories. Many species no longer occur in all of the areas listed.

Species in Table 2 of this notice are species we included either as proposed species or as candidates in the 2001 notice of review. Since the 2001 CNOR, we added six of these species to the Lists of Endangered and Threatened Wildlife and Plants. We removed the other two species from candidate status for the reasons as indicated by the codes. The first column indicates the present status of the species, using the following codes:

E—Species we listed as endangered.

T—Species we listed as threatened.

Rc—Species we removed from the candidate list because currently available information does not support a proposed listing.

Rp—Species we removed from the candidate list because we have withdrawn the proposed listing.

The second column indicates why we no longer regard the species as a candidate or proposed species using the following codes:

A—Species that are more abundant or widespread than previously believed and species that are not subject to the degree of threats sufficient to warrant continuing candidate status, or issuing a proposed or final listing. The reduction in threats could be due, in part, or entirely, to actions taken under a conservation agreement.

F—Species whose range no longer includes a U.S. territory.

I—Species for which we have insufficient information on biological vulnerability and threats to support issuance of a proposed rule to list.

L—Species we added to the Lists of Endangered and Threatened Wildlife and Plants.

M—Species we mistakenly included as candidates or proposed species in the last notice of review.

N—Species that are not listable entities based on the Act's definition of “species” and current taxonomic understanding.

X—Species we believe to be extinct.

The columns describing lead region, scientific name, family, common name, and historic range include information as previously described for Table 1.

Summary

Since publication of the 2001 notice of review, we reviewed the available information on candidate species to ensure that a proposed listing is justified for each species and to reevaluate the relative listing priority assignment of each species. We also evaluated whether we should emergency list any of these species, particularly species with high priorities (i.e., species with LPNs of 1, 2, or 3). We undertook this effort to ensure we focus conservation efforts on those species at greatest risk. As of May 30, 2002, 7 plants and 27 animals are proposed for endangered status; 5 animals are proposed for threatened status (one is proposed due to similarity in appearance); and 141 plant and 119 animal candidates are awaiting preparation of proposed rules (see Table 1). Table 2 includes 8 species that we previously classified as either proposed for listing or candidates that we no longer classify in those categories.

Summary of New Candidates

Below we present brief summaries of new candidates. Complete information, including references, can be found in the candidate forms. You may obtain a copy of these forms from the Regional office that has the lead for the species or from our internet website (http://endangered.fws.gov).

Amphibians

Relict leopard frog (Rana onca)—The relict leopard frog is a medium-sized brownish grey frog in the family Ranidae. Considered extinct since the 1950s, the species was rediscovered in 1991. Its current distribution is limited to 5 sites within 2 general areas in Nevada, although historical records exist at more than 12 sites along the Virgin and Colorado Rivers in Utah, Nevada, and Arizona. Since its rediscovery, 2 of the 5 sites have been extirpated. Primary threats include decreased water availability due to dam construction for power management, conversion of wetland habitat to agriculture and urbanization, introduction of predatory game fishes, and habitat degradation through recreational use. Currently, State and local regulations have been insufficient to protect the relict leopard frog and its habitat. We have determined that, although the threats are of high magnitude, they are nonimminent; therefore, we assigned a listing priority number of 5 to this species.

Austin blind salamander (Eurycea waterlooensis)—The Austin blind salamander is a small aquatic salamander approximately 6.4 centimeters (cm) (2.5 inches (in)) in length. The species lacks external eyes, has permanent external gills, a narrow head, and an extended snout. The Austin blind salamander is known from three spring outlets in Travis County, Texas. The species is believed to spend most of its life cycle underground, living in the Edwards Aquifer. Primary threats include degradation of water quality and quantity due to urbanization. Water quality data reflect a long-term trend of water quality degradation within Austin blind salamander habitat over the past 25 years. Currently no State or Federal regulations provide protection for this salamander. Due to imminent threats of a high magnitude, we assigned a listing priority number of 2 to this species.

California tiger salamander, Sonoma County DPS (Ambystoma californiense)—The California tiger salamander is a large, stocky, terrestrial salamander with a broad, rounded snout and is restricted to grasslands and lower foothill regions of California. The Sonoma County population of the California tiger salamander is presumed to have historically occurred in suitable habitat throughout the Santa Rosa Plain in Sonoma County in the North Bay Area. The Sonoma County population of the California tiger salamander has been extirpated from much of its historic range and is limited in its remaining habitat. All breeding sites, including those located in preserves, are currently affected by urban impacts (mostly housing developments) within 1 kilometer of the breeding pool location. One breeding site is affected by agricultural impacts such as discing, orchards, and vineyard conversion. Vandalism, collecting, harassment, and killing are serious threats to the species, given the fact that virtually every remaining population is surrounded by or adjacent to residential development. Predation is a significant problem for the Sonoma County California tiger salamander population. Introduced bullfrogs and fish, such as mosquito fish, that feed on the eggs and larvae inhabit many pools that hold water all year. This effectively eliminates the Sonoma County California tiger salamander from pools that otherwise would be valuable breeding grounds. Domestic dogs and cats from urbanized areas may harm migrating Sonoma County California tiger salamanders. Several other factors may have an adverse impact on the Sonoma County California tiger salamanders including increased traffic. Increased vehicular traffic results in direct mortality, as well as indirect mortality by pollution through car emissions which reduces the number of invertebrates found in pools, a food source for California tiger salamanders. Other contaminants, rodent control, and use of water from breeding ponds for irrigation and flood control may also adversely affect Sonoma County California tiger salamanders. Existing regulations are inadequate to protect the Sonoma County California tiger salamander. For example, protection offered by the Clean Water Act extends only to the pool itself with a small upland buffer. This is insufficient to protect most adult California tiger salamanders, which spend the majority of their life cycle in upland habitats that extend well beyond the upland boundary. Since Sonoma County California tiger salamanders spend up to 80 percent of their life in small mammal burrows in upland habitats surrounding breeding pools, the protection of the pool itself, with concurrent loss of uplands surrounding the pool, would still result in the loss of local Sonoma County California tiger salamanders. The Sonoma County California tiger salamander is a species of special concern under the California Endangered Species Act (CEQA), which requires a full disclosure of the potential environmental impacts of proposed projects. However, protection of listed species through CEQA is dependent upon the discretion of the agency involved in the project, and projects may be approved that cause significant environmental damage, such as destruction of listed endangered species and/or their habitat. Based on imminent threats of a high magnitude, we assigned a listing priority number of 3 to this DPS.

Salado salamander (Eurycea chisholmensis)—The Salado salamander is a small aquatic salamander approximately 5 cm (2 in) in length. The species is known from two spring sites fed by the Edwards Aquifer near Salado in Bell County, Texas. Primary threats include degradation of water quality and quantity due to urbanization. Several spills of gasoline and petroleum in the local area have likely resulted in groundwater contamination that affects the species. Currently no State or Federal regulation provides protection for this salamander. Due to imminent threats of a high magnitude, we assigned a listing priority number of 2 to this species.

Fish

Chucky madtom (Noturus sp.cf. Noturus elegans)—The chucky madtom is currently restricted to two sites in Little Chucky Creek in Greene County, Tennessee. Preliminary genetic analyses have indicated that the chucky madtom is a unique species; scientists are currently completing a formal description that will result in the taxon becoming a distinct species. Historically, this species was previously collected from Dunn Creek, a stream that is in a different watershed and physiographic province than Little Chucky Creek, so it is likely that the historic range of the chucky madtom encompassed a wider area in the Ridge and Valley and Blue Ridge physiographic provinces in Tennessee than is demonstrated by its current distribution. Since this species is only known to occur in one stream, it is vulnerable to random catastrophic events that may extirpate it. The chucky madtom is a bottom-dwelling species and is susceptible to sedimentation and other pollutants that degrade or eliminate habitat and food sources. The majority of the Little Chucky Creek watershed is privately owned and managed for beef cattle production, tobacco cultivation, and row crops, especially corn and soybeans. Therefore, nonpoint source sediment and agrochemical inputs into Little Chucky Creek from local agricultural and other sources can adversely affect the chucky madtom by altering the physical characteristics of its habitat. Such alterations would impede its ability to feed, seek shelter from predators, and successfully reproduce. The Dunn Creek watershed shares some of these same agricultural pressures, and these will continue to threaten the species if it still occurs there. Additional threats within the Dunn Creek watershed also include residential development and associated new infrastructure (e.g., roads, utilities, etc.) that contribute sediment and other pollutants to the stream or alter riparian areas. Overall, we believe that the potential demographic effects of inbreeding, limited species distribution, and low number of individuals pose the most significant threats to the chucky madtom. Although the chucky madtom was listed as endangered by the State of Tennessee, this listing only requires collectors of this species to have a State collection permit and does not provide adequate protection to this species. Because the threats to the chucky madtom are of a high magnitude and imminent, we assigned this species a listing priority number of 2.

Grotto sculpin (Cottus sp., sp. nov.)—The Grotto sculpin is a small fish within the banded sculpin taxonomic complex that exhibits cave-adapted features, including nearly nonfunctional eyes, reduced skin pigmentation, and smaller optic nerves. The species inhabits pools and riffles within cave systems in two karst (cave) areas in Perry County, Missouri. Only a few thousand individuals are thought to exist. The species is threatened by water quality contamination as a result of point and nonpoint pollution sources. A large die-off of all Grotto sculpins in one of the five known occupied cave systems known to have the species was likely a result of pollution. The species is also threatened by predatory fish that likely prey upon Grotto sculpin, which are known from all locations occupied by the species. Currently no State or Federal regulations provide protection for the Grotto sculpin. Due to imminent threats of a high magnitude, we assigned a listing priority number of 2 to this species.

Rush darter (Etheostoma phytophilum)—The rush darter, a medium-sized darter (40 millimeters (mm) (2 in)), is currently known to have one of the most restricted distributions of any vertebrate in Alabama. Historically, rush darters have been found in three distinct watersheds, but currently there are only two known populations. One population is located in Wildcat Branch and Mill Creek in the Clear Creek drainage in Winston County, and the second is located in an unnamed spring run to Beaver Creek and in Penny Springs in the Turkey Creek drainage in Jefferson County. The rush darter is vulnerable to nonpoint source pollution, urbanization, and changes in stream geomorphology due to its localized distribution in parts of two unconnected stream drainages and its apparent low population sizes. The rush darter's range is close to metropolitan Birmingham, Alabama, an area in which all of the activities listed above are occurring, so impacts from these activities on the rush darter and its habitat have occurred and are very likely to continue to occur. The disjunct distribution of the rush darter makes their populations vulnerable to extirpation from catastrophic events, such as toxic spills or changes in flow regimes. Currently no State or Federal regulations provide protection for the rush darter. Based on nonimminent threats of a high magnitude, we assigned a listing priority number of 5 to this species.

Sharpnose shiner (Notropis oxyrhynchus)—The sharpnose shiner is a small, slender minnow, endemic to the Brazos River Basin in Texas. Historically, the sharpnose shiner existed throughout the Brazos River and several of its major tributaries within the watershed. Current information indicates that the population within the Upper Brazos River drainage (upstream of Possum Kingdom Reservoir) is apparently stable, while the population within the Middle and Lower Brazos River Basins may only exist in remnant areas of suitable habitat, or may be completely extirpated, representing a reduction of approximately 64 percent of its historical range. The most significant threat to the existence of the sharpnose shiner is the present and continued modification of its habitat by reservoir construction, irrigation and water diversion, sedimentation, industrial and municipal discharges, and agricultural activities. The current limited distribution of the sharpnose shiner within the Upper Brazos River Basin makes it vulnerable to catastrophic events such as the introduction of competitive species or prolonged drought. Other possible threats include toxins released by blooms of golden algae, and sand and gravel operations in the Lower Brazos River. The effects of these last two possible threats may be insignificant, but further information is necessary. State law does not provide protection for the sharpnose shiner. Because these threats are nonimminent but of a high magnitude, we assigned a listing priority number of 5 to this species.

Smalleye shiner (Notropis buccula)—The smalleye shiner is a small, pallid minnow endemic to the Brazos River Basin in Texas. The population of smalleye shiners within the Upper Brazos River drainage (upstream of Possum Kingdom Reservoir) is apparently stable. However, the shiner has not been collected since 1976 downstream from the reservoir, and in all likelihood the species is completely extirpated from this area representing a reduction of approximately 64 percent of its historical range. The most significant threat to the existence of the smalleye shiner is the present and continued modification of its habitat by reservoir construction, irrigation and water diversion, sedimentation, industrial and municipal discharges, and agricultural activities. The current limited distribution of the smalleye shiner within the Upper Brazos River Basin makes it vulnerable to catastrophic events such as introduction of competitive species or prolonged drought. State law does not provide protection for the smalleye shiner. Because these threats are high but nonimminent, we assigned a listing priority number of 5 to this species.

Clams

Altamaha spinymussel (Elliptio spinosa)—The Altamaha spinymussel is a freshwater mussel endemic to the Altamaha River drainage of southeastern Georgia. Individuals are medium to large in size, greenish-yellow to deep brown in color, and have one to five prominent spines on the shells. Historically known from four rivers, the Altamaha spinymussel appears to remain in two of these in greatly reduced numbers. The species is threatened throughout its range by sedimentation and contamination of waterways. One population is additionally threatened by the proposed expansion of a nuclear power plant, which may result in habitat alteration from changes in stream channel morphology, and in heat stress to individuals and populations, algal blooms, and oxygen depletion as a result of thermal discharges during low water conditions. We have determined that, although the threats are of high magnitude, they are nonimminent; therefore, we assigned a listing priority number of 5 to this species.

Snails

Elongate mud meadows pyrg (Pyrgulopsis notidicola)—The elongate mud meadows pyrg is a small freshwater springsnail found only in a 300 meter (984 foot) stretch of a single thermal spring and associated outflow in Humboldt County, Nevada. The primary threat to the species is alteration and degradation of its habitat by recreational users that come to the spring to bathe. Visitor use of this area has increased substantially over the past decade due to increased awareness of the site and the recent designation of it as a national conservation area. Although the land is owned and managed by the Bureau of Land Management, the remote nature of the site has made it difficult to manage visitor use, implement conservation actions, and enforce regulations. Due to imminent threats of a high magnitude, we assigned a listing priority number of 2 to this species.

Insects

Dakota skipper (Hesperia dacotae)—The Dakota skipper is a small-to mid-sized butterfly that inhabits high-quality tallgrass and mixed grass prairie in Minnesota, North Dakota, South Dakota, and the provinces of Manitoba and Saskatchewan in Canada. The species appears to have been extirpated from Iowa and Illinois, as well as many sites within States with extant locations. The species is threatened by the large-scale conversion of native prairie to agricultural purposes, as well as fire management, grazing, plant invasion, and fragmentation of habitat leading to local extirpations. Although the species is listed as threatened by the State of Minnesota, this designation lacks the habitat protections needed for long-term conservation. The species is listed as endangered by the province of Manitoba. However, the protections in Manitoba are not sufficient to remove the threats to the species. Due to efforts that have been made to preserve habitat through conservation easements at some of the known locations, the threats to the species are low to moderate and nonimminent. Therefore, we assigned a listing priority number of 11 to the species.

Stephan's riffle beetle (Heterelmis stephani)—Stephan's riffle beetle is found only in limited spring environments within the Santa Rita Mountains, Pima County, Arizona. Based on relatively intensive surveys of the surrounding area, the entire range of this species is believed to be confined to Madera Canyon where it lives in shallow streams, rapids, or other comparable water situations. The springs where Stephan's riffle beetle is known to occur no longer exist in their natural condition; all have been boxed, capped, or channeled into pipes. The loss of habitat at the type locality (location where the species was first described) has eliminated what was likely a significant population of this species. In the absence of public education, recreationists that use the springs may unwittingly degrade habitat by introducing chemicals or allowing pets into the springs. Additionally, endemic spring-dependent organisms whose populations exhibit a high degree of geographic isolation, like Stephan's riffle beetle, are extremely susceptible to random extinction resulting from catastrophic natural disasters such as fires, floods, or changes in spring water chemistry. Currently, no State or local government programs exist that address the conservation of rare and imperiled insects such as this beetle. Based on nonimminent threats of a high magnitude, we assigned a listing priority number of 5 to this species.

Flowering Plants

Calochortus persistens (Siskiyou mariposa lily)—Calochortus persistens is a narrow endemic that is restricted to two disjunct ridge tops in the Klamath-Siskiyou Range, on the California-Oregon border. In California, this species is currently found at nine separate sites on approximately 10 hectares (ha) (24.7 acres (ac)) of Klamath National Forest and privately owned lands that stretch for 6 kilometers (km) (3.7 miles (mi)) along the Gunsight-Humbug Ridge. The Oregon population was described in 1998 as five plants in an area of a few square feet, but no plants have been seen at this site for the past 2 years. Major threats include fire suppression resulting in shading; competition by native and nonnative species; increased fuel loading; fragmentation by roads, fire breaks, tree plantations, and radio-tower facilities; maintenance and construction around radio towers and telephone relay stations located on Gunsight Peak and Mahogany Point; and soil disturbance and exotic weed and grass species introduction as a result of heavy recreational use. Isatis tinctoria (dyer's woad), a plant thought to prevent C. persistens seedling establishment, is now found throughout the California population, affecting 90 percent of the known lily habitat. Forest Service staff and the Klamath-Siskiyou Wildlands Center cite competition with dyer's woad as a significant and chronic threat to the survival of C. persistens. Unpublished data show that there has been no successful reproduction of C. persistens in the last 5 years. The combination of restricted range, apparent loss of one of two disjunct populations, poor competitive ability, short seed dispersal distance, slow growth rates, extremely low or absent seed production, and competition from exotic plants threaten the continued existence of this species. Due to imminent threats of a high magnitude, we assigned a listing priority number of 2 to this species.

Ivesia webberi (Webber ivesia)—Ivesia webberi is a low, spreading, perennial herb that occurs very infrequently in Lassen, Plumas, and Sierra Counties in California, and in Douglas and Washoe Counties, Nevada. The 15 currently known occurrences are clustered in seven general locations covering about 75 hectares (ha) (185 acres (ac)). The species occurs in immediate proximity to rapidly growing urban areas in the foothills of the Sierra Nevada and in the western Great Basin near Reno, Nevada. Threats to I. webberi generally include urban development, authorized and unauthorized roads, off-road vehicle activities and other dispersed recreation, livestock grazing and trampling, fire and fire suppression activities including fuels reduction and prescribed fires, and displacement by noxious weeds. Evidence of impacts from these types of uses has been documented at the majority of I. webberi populations. The Bureau of Land Management classifies I. webberi as a sensitive species; however, no specific management guidelines to ensure the conservation of this species are currently being implemented. Ivesia webberi is designated as threatened by the Nevada Native Plant Society, and participants of the 2000 Nevada Rare Plant Workshop recommended that the State of Nevada consider the species for listing as critically endangered under Nevada Revised Statutes (NRS) 527.270 et seq. If the species were to be listed under the NRS, permits for the disturbance of habitat or taking of individuals would have to be obtained from the Nevada Division of Forestry. The adequacy of this law depends greatly on informed and cooperative landowners and land managers or some form of deterrent enforcement, which the current NRS do not articulate. This plant is on the California Native Plant Society's (CNPS) 1B list (plants considered rare, threatened, or endangered in California and elsewhere), which meets the definitions under the Native Plant Protection Act and the California Endangered Species Act and is eligible for State listing. Plants on the CNPS 1B list must be fully considered during the environmental documentation process under the California Environmental Quality Act (CEQA). However, CEQA only requires disclosure of a project's impacts on the species; it does not provide protective management for I. webberi. Because these threats are high in magnitude but nonimminent, we assigned a listing priority number of 5 to this species.

Potentilla basaltica (Soldier Meadows cinquefoil or basalt cinquefoil)—Potentilla basaltica is a low-growing, herbaceous perennial known only from Soldier Meadow in Humboldt County, Nevada, and Ash Valley in Lassen County, California. It is restricted to moist meadows and seeps and their margins in alkaline, sandy soils between 1,320 and 1,555 meters (m) (4,330 and 5,100 feet (ft)) elevation. In general, populations of P. basaltica are distant from urban centers; however, these areas are popular for recreation and are often affected by livestock grazing. While all of the occurrences of P. basaltica are currently presumed extant, all are being severely affected by land uses within and around Ash Valley in California and the Black Rock region in Nevada. Various direct impacts to P. basaltica populations and habitat have occurred in past years and continue to affect the species, including channelizing spring outflow for livestock and recreational uses; trampling by livestock; degradation or elimination of habitat for agriculture, livestock grazing, and recreational uses; development of hot springs and camping areas; roads and off-highway vehicle activity; geothermal exploration; and introduction of invasive, nonnative species. The Bureau of Land Management classifies P. basaltica as a sensitive species; however, no specific management guidelines to ensure the conservation of this species are currently being implemented. This plant is on the CNPS 1B list (plants considered rare, threatened, or endangered in California and elsewhere), which indicates the plant meets the definitions under the Native Plant Protection Act and the California Endangered Species Act and is eligible for State listing. Plants on the CNPS 1B list must be fully considered during the environmental documentation process under CEQA. However, CEQA only requires disclosure of a project's impacts on the species; it does not provide protective management for P. basaltica. Potentilla basaltica is not currently listed by the State of Nevada but is considered threatened by the Nevada Native Plant Society. Because the threats to this species are high in magnitude but nonimminent, we assigned it a listing priority number of 5.

Summary of Listing Priority Changes in Candidates

Birds

Western Sage Grouse, Columbia Basin Distinct Population Segment (Centrocercus urophasianus phaios)—We changed the listing priority number from a 9 to a 6 because the threats are now of a high magnitude for the species based on the small and fragmented nature of the population and by a 30 percent decline in abundance of this DPS between 2000 and 2001. While this species exhibits natural fluctuations in population size, the overall population estimate of approximately 700 individuals is the lowest ever recorded. However, there is no apparent direct cause-and-effect between the identified threats and the recent decline. We also have determined that the threats previously considered imminent are no longer imminent. Military training constitutes the primary threat to the southern population, while habitat conversion (primarily loss of Conservation Reserve Program (CRP) acreage) is the primary threat impacting the northern subpopulation. We have concluded that threats related to military training are not imminent, based on the implementation of the Army's conservation measures, and considerably lower levels of actual training (from planned activities) occurring in Yakima and Kittitas Counties. We have likewise concluded that the threat to the northern population from habitat conversion is also not imminent, because much of the CRP acreage that could have expired was re-signed and increased in 1998 in Douglas County. Thus, threats previously classified as imminent are actually non-imminent in nature.

Fish

Arkansas darter (Etheostoma cragini)—We changed the listing priority number from a 5 to an 11 because the species appears to be stable throughout much of its range, and the threats to the species from water depletion no longer appear to be of high magnitude.

Snails

Chupadera springsnail (Pyrgulopsis chupaderae)—We changed the listing priority number from an 8 to a 2 because the threats are now high for the species due to intentional burning in January 2002 of the wetland vegetation at the only known location of the species. Therefore, we are classifying the immediacy of the threats as imminent.

Flowering Plants

Florida semaphore cactus (Consolea (Opuntia) corallicola)—We changed the listing priority number from a 5 to a 2 because the threats to the species are more imminent than previously known. The species is known from only two sites, one of which was recently discovered. The original population was determined to only contain males, which eliminates the possibility of sexual reproduction at the site and reduces the genetic viability. In addition, the new population is threatened by an introduced moth that has decimated populations of other cactus species within the same genus.

Umtanum desert buckwheat (Eriogonum codium)—We changed the listing priority number from a 5 to a 2 because we discovered new information about the lack of reproduction in the species, which increases the imminence of threat of decimation through wildfire and human disturbance.

Candidate Removals

Insects

Fabulous green sphinx moth (Tinostoma smargditis)—Only 17 specimens of this moth have ever been found since it was first discovered in 1895, through 1998, the last survey effort we funded. During the 1998 survey, we hoped to learn the host plant for the moth. However, the completed survey did not provide any additional information on the host plant. Because of this, we have insufficient information on the specific threats to this species. Thus we are removing this species as a candidate, due to the lack of key specific information for this species.

Flowering Plants

Pleomele fernaldii (Hala pepe)—Pleomele fernaldii is being removed since it was mistakenly included as a candidate in the previous candidate notice of review.

Petition for a Candidate Species

The Act provides two mechanisms for considering species for listing. First, the Act requires us to identify and propose for listing those species that require listing under the standards of section 4(a)(1). We implement this through the candidate program, discussed above. Second, the Act provides a mechanism for the public to petition us to add a species to the Lists. Under section 4(b)(3)(A), when we receive such a petition, we must determine within 90 days, to the maximum extent practicable, whether the petition presents substantial information that listing is warranted (a “90-day finding”). If we make a positive 90-day finding, under section 4(b)(3)(B) we must make one of three possible findings within 12 months of the receipt of the petition (a “12-month finding”).

The first possible 12-month finding is that listing is not warranted, in which case we need take no further action on the petition. Second, we may find that listing is warranted, in which case we must promptly publish a proposed rule to list the species. Once we publish a proposed rule for a species, section 4(b)(5) and (6) govern further procedures, regardless of whether or not we issued the proposal in response to a petition. Third, we may find that listing is “warranted but precluded.” Such a finding means that immediate publication of a proposed rule to list the species is precluded by higher priority listing proposals, and that we are making expeditious progress to add and remove species from the Lists, as appropriate.

The standard for making a 12-month warranted but precluded finding on a petition to list a species is identical to our standard for making a species a candidate for listing. Therefore, we add all petitioned species subject to such a finding to the candidate list. Similarly, we can treat all candidates as having been subject to both a positive 90-day finding and a warranted but precluded 12-month finding. This notice constitutes publication of such findings pursuant to section 4(b)(3) for each candidate species listed in Table 1 that is the subject of a subsequent petition to list as threatened or endangered. Under our Petition Management Guidance, made available on July 9, 1996 (61 FR 36075), we consider a petition to list a species already on the candidate list to be a second petition and, therefore, redundant. We do not interpret the petition provisions of the Act to require us to make a duplicative finding. Therefore, we are not making additional 90-day findings or initial 12-month findings on petitions to list species that are already candidates.

Pursuant to section 4(b)(3)(C)(i) of the Act, when, in response to a petition, we find that listing a species is warranted but precluded, we must make a new 12-month finding each year until we publish a proposed rule or make a determination that listing is not warranted. These subsequent 12-month findings are referred to as recycled petition findings. As discussed below, we will make recycled petition findings for petitions on such species via our Candidate Notices of Review such as this one.

On June 20, 2001, the United States Court of Appeals for the Ninth Circuit held that the 1999 CNOR (64 FR 57534 (Oct. 25, 1999)) did not constitute valid warranted but precluded 12-month petition findings for the Gila chub and Chiracahua leopard frog. Center for Biological Diversity v. Norton, 254 F.3d 833 (9th Cir. 2001). In particular, the Court found that inclusion of these species as one line each on the table of candidates in the 1999 CNOR, with no further explanation, did not satisfy the section 4(b)(3)(B)(iii)'s requirement that the Service publish “a description and evaluation of reasons and data on which the finding was based” in the Federal Register. The Court found that this one-line statement of candidate status also precluded meaningful judicial review. Moreover, the Court found that candidate status did not guarantee that annual reviews of warranted but precluded petitioned species would take place pursuant to section 4(b)(3)(C)(i). Finally, the Court suggested, but did not decide, that the 1999 CNOR met the Act's requirements for positive 90-day petition findings.

Although we do not agree with the conclusions of the Ninth Circuit, we have drafted subsequent CNORs (including this one) to address the Court's concerns. We have included below a description of why the listing of every petitioned candidate species is both warranted and precluded at this time. Pursuant to section 4(b)(3)(C)(ii), any party with standing may challenge the merits of one of our petition findings incorporated in this CNOR. The analysis included herein, together with the administrative record for the decision at issue, will provide an adequate basis for a court to review the petition finding. Finally, nothing in this document or any of our policies should be construed as in any way modifying the Act's requirement that we make a new 12-month petition finding for each petitioned candidate within 1 year of the date of publication of this CNOR. If we fail to make any such finding on a timely basis, whether through publication of a new CNOR or some other form of notice, we may be subject to a deadline lawsuit pursuant to section 11(g)(1)(C), as we would be with respect to any other failure to comply with a section 4 deadline.

We reviewed the current status of and threats to the 35 species for which we have found the petitioned action to be warranted but precluded and have incorporated any new information we have gathered since the previous finding. As a result of this review, we made continued warranted but precluded findings on the petitions for all 35 species. For the 30 of these species that are candidates, we maintain them as candidates and identify them by the code “C*” in the category column on the left side of Table 1. As discussed above, this finding means that the immediate publication of proposed rules to list these species was precluded by our work on the following higher priority listing actions during the period from November 1, 2001, through May 30, 2002: Court orders or settlement agreements to propose critical habitat and/or complete critical habitat determinations for 3 southern California plants, Kneeland Prairie pennycress, purple amole, Santa Cruz tarplant, Oahu elepaio, Newcomb's snail, 76 Kauai and Nihau plants (reproposal), 5 California carbonate plants, Blackburn's sphinx moth, 32 Lanai plants (reproposal), 2 Hawaiian invertebrates, 8 northwest Hawaiian Islands plants, 61 Maui and Kahoolawe plants (reproposal), quino checkerspot butterfly, 46 Molokai plants (reproposal), San Bernardino kangaroo rat, 56 Hawaiian Island plants, 15 vernal pool species (4 fairy shrimp and 11 plants), 103 Oahu plants, Rio Grande silvery minnow, gulf sturgeon; proposed listings for pygmy rabbit, Carson's wandering skipper, Island fox, 4 southwestern invertebrates (proposed listing with critical habitat), and Tumbling Creek cavesnail; final listing determinations for Buena Vista Lake shrew, showy stickseed, scaleshell mussel, Vermilion darter, Mississippi gopher frog, golden sedge, and desert yellowhead; emergency listings for pygmy rabbit, Carson's wandering skipper, and Tumbling Creek cavesnail; 90-day petition finding for Miami blue butterfly; and 12-month petition finding for Big Cypress fox squirrel and Cape Sable seaside sparrow (for critical habitat).

In addition to identifying petitioned candidate species in Table 1, we also present brief summaries of why these candidates warrant listing. More complete information, including references, are found in the candidate forms. You may obtain a copy of these forms from the Regional office that has the lead for the species or from the Fish and Wildlife Service's internet website: http://endangered.fws.gov/.

We find that the immediate issuance of a proposed rule and timely promulgation of a final rule for each of these actions has, for the preceding 7 months been, and will over the next year, be precluded by higher priority listing actions. During the past 7 months, almost all of our listing budget has been needed to take various listing actions to comply with court orders and court-approved settlement agreements. For a list of the listing actions taken over the 7 months, see the discussion of “Progress on Revising the Lists,” below.

For the next year, the majority of our remaining listing budget for FY 2002, and our anticipated listing budget for FY 2003 based on the President's requested budget, will be needed to take listing actions to comply with court orders and court-approved settlement agreements. Currently, we will address or complete the following actions: Proposed critical habitat designations for 6 Guam species, Keck's checkermallow, yellow and Baker's larkspur, bull trout (Columbia and Klamath populations), Ventura marsh milkvetch, 9 Texas (Bexar County) invertebrates, southwestern willow flycatcher, cactus ferruginous pygmy owl, Topeka shiner, and Preble's meadow jumping mouse; final critical habitat designations for 81 Kauai and Nihau plants, 2 Hawaiian invertebrates, Blackburn's sphinx moth, Newcomb's snail, 15 vernal pool species (4 fairy shrimp and 11 plants), 55 Maui and Kahoolawe plants, Rio Grande silvery minnow, 9 Texas (Bexar County) invertebrates, Appalachian elktoe, gulf sturgeon, and Great Plains breeding population of piping plover; 12-month petition findings for Yosemite toad, mountain yellow-legged frog (entire population), and California spotted owl; proposed listing rules for slickspot peppergrass, and Gila chub (with critical habitat); final listing determinations for San Diego ambrosia, mountain yellow-legged frog (southern California population), coastal cutthroat trout, large-flowered meadow foam and Cook's lomatium, and Chiricahua leopard frog.

Issuance of proposed listing rules for most of the candidates even with the highest listing priority numbers (i.e., 1, 2, or 3) will continue to be precluded next year due to completing actions required by court orders and court-approved settlement agreements, as well as the need to comply (or end noncompliance) with the unqualified statutory deadlines for making 12-month petition findings and final listing determinations on proposed rules. In addition to those final determinations required by court orders and settlement agreements, during the next year we will work on final determinations for the following species: Carson's wandering skipper, pygmy rabbit, Scotts Valley polygonum, four southwestern invertebrates, Tumbling Creek cavesnail, and mountain plover. In addition to proposed rules required by court orders and settlement agreements, we must work in the next year on proposed rules for at least 2 high-priority species, the Salt Creek tiger beetle and the southwestern Alaska population of the northern sea otter. Moreover, given the recent decision in Center for Biological Diversity v. Badgeley, 284 F.3d 1046 (9th Cir. 2002), which held that the Act require that 90-day petition findings be made no later than 12 months after receipt of the petition, regardless of whether it is practicable to do so, we may need to make 90-day findings on most or all of the outstanding petitions prior to issuing proposed rules for the 35 species subject to warranted but precluded findings. If over the next year we can devote any resources to issuing proposed rules for the highest priority candidates without jeopardizing our ability to comply with court orders, court-approved settlement agreements, or unqualified statutory deadlines, we will do so.

Finally, work on proposed rules for candidates with lower priority (i.e., those that have listing priority numbers of 4-12) is also precluded by the need to issue proposed rules for higher priority species, particularly those facing high-magnitude, imminent threats (i.e., listing priority numbers of 1, 2, or 3). Table 1 shows the listing priority number for each candidate species.

Mammals

Black-tailed prairie dog (Cynomys ludovicianus)—As described in our February 4, 2000, 12-month finding (65 FR 5476), black-tailed prairie dog populations have been significantly reduced and are subject to several persistent threats. We believe that various threats (especially plague) continue to cause local extirpations that could lead to the species becoming vulnerable in a significant portion of its range. Additionally, the species may have difficulty coping with challenges without the advantage of its historic abundance and wide distribution. Accordingly, the vulnerability of the species to population reductions may be related less to its absolute numbers than to the number of colonies in which it exists, their size, their geospatial relationship, existing barriers to immigration and emigration, and the number and nature of the direct threats to the species. The apparent magnitude of the disease threat may be mitigated to some degree by new information that indicates that limited immune response is possible in some individuals and by new information that a population dynamic may have developed in low-density, isolated populations that may contribute to the persistence of depressed populations. Nevertheless, we conclude that the magnitude of this threat to the black-tailed prairie dog remains moderate due to other influences. Additionally, the threat of disease remains imminent. We have reviewed the 12-month finding that projected likely future black-tailed prairie dog population trends. We conclude that this projection remains generally appropriate despite new information from which we infer that the magnitude of the disease threat to the species may be somewhat less than previously determined. While positive steps to conserve and manage black-tailed prairie dogs have been made by some States and Tribes, more conservation work will be needed by all States, Tribes, and Federal agencies to sufficiently reduce threats to the species. The overall magnitude and immediacy of threats to this species remain unchanged since the 12-month finding was published with a listing priority number of 8.

Sea otter, southwest Alaska DPS (Enhydra lutris kenyoni)—The following summary is based on information contained in our files and the petition received on October 26, 2000. The worldwide population of sea otters in the early 1700s has been estimated at 150,000 to 300,000. Extensive commercial hunting of sea otters in Alaska began following the arrival of Russian explorers in 1741 and continued during the 18th and 19th centuries. By the time sea otters were afforded protection from commercial harvests by international treaty in 1911, the species was nearly extinct throughout its range, and may have numbered only 1,000 to 2,000 individuals. Today three subspecies of sea otter have been identified. The northern sea otter contains two subspecies: Enhydra lutris kenyoni, which occurs from the Aleutian Islands to Oregon, and Enhydra lutris lutris, which occurs in the Kuril Islands, Kamchatka Peninsula, and Commander Islands in Russia. The third subspecies, Enhydra lutris nereis, occurs in California and is known as the southern sea otter. Until recently, southwest Alaska had been considered a stronghold for sea otters. In the mid-1980s, biologists believed that 80 percent of the world population of sea otters occurred in southwest Alaska. Recent aerial surveys document drastic population declines (up to 90%) have occurred throughout this area during the past 10-15 years. Today as few as 9,000 sea otters may remain in the Aleutian Islands. Since April 2000, we have conducted additional aerial surveys along the Alaska Peninsula and the Kodiak Archipelago. Results of these surveys indicate that sea otter populations have declined substantially in these areas as well. The current population estimate for the Kodiak archipelago is roughly 4,000 less than in 1994; a decline of almost 40 percent in only 7 years. In the 2001 CNOR, we designated the northern sea otter in the Aleutian Islands as a candidate. We are revising the candidate form to reflect the most current scientific information regarding population boundaries and status. The geographic extent of the candidate designation now includes the Aleutian Islands, Alaska Peninsula coast, and Kodiak Archipelago. Potential threats include both natural fluctuations and human activities, which may have caused changes in the Bering Sea ecosystem. Subsistence hunting occurs at very low levels and does not appear to be a factor in the decline. While disease, starvation, and contaminants have not been implicated at this time, additional evaluation of these factors is warranted. The hypothesis that predation by killer whales is causing the sea otter decline should also be further studied. Due to the precipitous and rapid nature of the ongoing population decline, we have assigned the southwest Alaska DPS of Enhydra lutris kenyoni a listing priority number of 3. Additionally, we have no indication that the decline has reached an endpoint, and therefore immediate action is needed.

Sheath-tailed bat, American Samoa and Aguijan DPS (Emballonura semicaudata)—The following summary is based on information contained in our files, and the petition received on March 3, 1986. Historically the sheath-tailed bat was known from the southern Mariana Islands, Palau, and Western and American Samoa. Populations on the Mariana Islands of Guam and Rota have been extirpated and the Mariana population on Aguijan has been reduced to approximately 10 individuals. A similar drastic decline has occurred in American Samoa where populations of this bat were estimated at over 10,000 in 1976. In 1993, only four bats were recorded. This species resides in caves and is very susceptible to disturbance. The populations in American Samoa and the Mariana Islands are at the extreme limits of the species' range. Roost sites have been rendered unsuitable for bats by human intrusion into caves and the use of some caves as garbage dumps. Typhoons have also damaged some caves by blocking entrances or by flooding coastal caves. The loss of roost sites has severely restricted population size, especially in American Samoa, where few caves exist. In addition, small populations and limited numbers of populations place this distinct population segment at great risk of extinction from inbreeding, random events, and storms. Based on immediate threats of a high magnitude, we assigned the American Samoa and Aguijan DPS of the sheath-tailed bat a listing priority number of 3.

Southern Idaho ground squirrel (Spermophilus brunneus endemicus)—The following summary is based on information contained in our files and the petition received on January 29, 2001. During the past 30 years, a dramatic population decline of the southern Idaho ground squirrel has occurred. We now believe that the southern Idaho ground squirrel occupies approximately 44 percent of its historical range. Surveys indicate a precipitous decline in the squirrel population since the mid-1980s. In the spring of 2001, scientists conducted surveys to understand on a qualitative level the pattern of spatial distribution and density of southern Idaho ground squirrel populations, and then to make a population estimate for the species. The survey resulted in an estimate of 2,177 to 4,354 southern Idaho ground squirrels. Scientists attribute the decline to invasive nonnative plants associated with a change in fire frequency, and lack of reclamation or restoration of habitat by various land management agencies and private landowners. There is also an increase in the risk of extinction due to a reduced distribution. Based on our evaluation that these threats pose an imminent risk of a high magnitude, this subspecies warrants a listing priority number of 3.

Washington ground squirrel (Spermophilus washingtoni)—The following summary is based on information contained in our files and the petition received on March 2, 2000. Since the designation of the species as a candidate on October 25, 1999, more information has become available regarding the types of soils used by Washington ground squirrels, the effects of agriculture on Washington ground squirrel colonies, the status of the species throughout its range, and the significance of the Oregon population to the species as a whole. The soil types used by the squirrels are distributed sporadically within the species' range, and have been seriously fragmented by human development in the Columbia Basin, particularly conversion to agricultural use. Where agriculture occurs, little evidence of ground squirrel use has been documented, and reports indicate that ongoing agricultural conversion permanently eliminates Washington ground squirrel habitat. The most contiguous, least-disturbed expanse of suitable Washington ground squirrel habitat, and likely the densest distribution of colonies within the range of the species, occurs on the Boeing site and Boardman Bombing Range in Oregon. Substantial threats to the species occur throughout its range, including the remaining populations in Oregon. Even on State-owned lands in Oregon, the loss of known sites is likely. The loss of significant numbers of colonies in Oregon would be detrimental to the continued existence of the Washington ground squirrel. In Washington, recent declines have been precipitous and for unknown reasons. In 2001, entire colonies of ground squirrels have been lost on the Columbia National Wildlife Refuge and Seeps Lake Management Area near Othello, Washington, despite the protected status of the species in the area. Biologists observed significant declines in body mass, and many adult squirrels experienced a complete failure to reproduce in 2001, likely as a result of starvation. Individuals that lacked sufficient body weight are not likely to survive the 7- to 8-month hibernation period this species experiences. All of these threats have been observed in the past 2 years, are likely to continue, and appreciably reduce the likelihood of survival of many Washington ground squirrel colonies across the range of the species. Based on our current evaluation of threats, we assigned a listing priority number of 2 to this species.

Birds

Band-rumped storm-petrel, Hawaii DPS (Oceanodroma castro)—The following summary is based on information contained in our files and the petition received on May 8, 1989. Breeding season surveys on Hawaii, Maui, and Kauai, as well as reports of fledglings picked up on Hawaii and Kauai, confirm that small populations still exist on these Hawaiian islands. Estimates of the total State-wide population could exceed 100 pairs if viable breeding populations exist on Maui and Hawaii. Although small populations do occur on Maui and Hawaii, we have been unable to determine if they are viable; certainly they are not large and they represent a fraction of prehistoric distribution. Predation by introduced species is believed to have played a significant role in reducing storm-petrel numbers and in exterminating colonies in the Pacific and other locations worldwide. Additionally, artificial lights have had a significant negative effect on fledgling young and, to a lesser degree, adults. Artificial lighting of roadways, resorts, ballparks, residences, and other development in lower elevation areas attracts and confuses night-flying, storm-petrel fledglings, resulting in “fall-out” and collisions with buildings and other objects. Currently, the species is not known to be taken or used for commercial, recreational, scientific, or educational purposes. During 1992 surveys on Mauna Loa, Hawaii, several caches of Hawaiian dark-rumped petrel carcasses associated with feral cat predation were recorded in areas where band-rumped storm-petrel vocalizations were recorded. Based on imminent threats of a high magnitude, we assigned this Hawaii DPS of the band-rumped storm-petrel a listing priority number of 3.

Gunnison sage grouse (Centrocercus minimus)—The following summary is based on information contained in our files and the petition received on January 25, 2000. The range of the Gunnison sage grouse has been reduced to less than 25 percent of its historic range. Size of the range and quality of its habitat have been reduced by direct habitat loss, fragmentation, and degradation from building development, road and utility corridors, fences, energy development, conversion of native habitat to hay or other crop fields, alteration or destruction of wetland and riparian areas, inappropriate livestock management, competition for winter range by big game, and creation of large reservoirs. Other factors affecting the Gunnison sage grouse include fire suppression, overgrazing by elk (Cervus elaphus) and deer (Odocoileus hemionus), drought, disturbance or death by off-highway vehicles, harassment from people and pets, noise that impairs acoustical quality of leks (courtship areas), genetic depression, pesticides, pollution, and competition for habitat from other species. For greater detail as to why listing is warranted, see 65 FR 82310, December 28, 2000. We consider all of these threats to be of high magnitude but nonimminent; therefore, we assigned the Gunnison sage grouse a listing priority of 5.

Lesser prairie-chicken (Tympanuchus pallidicinctus)—The following summary is based on information contained in our files, including information from the petition received on October 5, 1995. Biologists estimate that the occupied range has declined at least 78 percent since 1963 and 92 percent since the 1800s. The most serious threats to the lesser prairie-chicken are loss of habitat from conversion of native rangelands to introduced forages and cultivation, and cumulative habitat degradation caused by severe grazing, fire suppression, herbicides, and structural developments. Many of these threats may exacerbate the normal effects of periodic drought on lesser prairie-chicken populations. In many cases, the remaining suitable habitat has become fragmented by the spatial arrangement of properties affected by these individual threats. We view current and continued habitat fragmentation to be a serious ongoing threat that facilitates the extinction process through several mechanisms: remaining habitat patches may become smaller than necessary to meet the yearlong requirements of individuals and populations; necessary habitat heterogeneity may be lost to large areas of monoculture vegetation and/or homogenous habitat structure; areas between habitat patches may harbor high levels of predators or brood parasites; and the probability of recolonization decreases as the distance between suitable habitat patches expands. Inadequacy of existing regulatory mechanisms to protect lesser prairie-chicken habitat was cited as a potential threat to the species in the Service's 12-month finding. Most occupied lesser prairie-chicken habitat occurs on private land where States have little authority to protect the species or its habitat, with the exception of setting harvest regulations. While some Federal lands within occupied range have voluntarily accommodated certain needs of the lesser prairie-chicken, the species cannot be sufficiently conserved only on Federal lands to prevent extinction. Although Federal lands comprise only five percent of currently occupied habitat, these tracts are located in areas essential to population recovery and dispersal. As a result, the Service views habitat management considerations on Federal lands within current and historic range with even greater importance. Concern exists that recreational hunting and harassment are potential threats to the species. While the Service does not believe that overutilization through recreational hunting is a primary cause of lesser prairie-chicken decline, we are concerned that small and isolated populations may be vulnerable to local extirpations caused by repeated harvest pressure, especially near fall leks. Similarly, the effects of repeated recreational viewing at leks is unknown. The Service solicits input from all parties who may be knowledgeable about these factors, as well as two potential threats not cited in the 12-month finding; organophosphorus insecticide poisoning and degree of impacts from hybridization with greater prairie-chickens in northern portions of occupied range. Based on all currently available information, we find that ongoing threats to the lesser prairie-chicken, as outlined in the 12-month finding, remain unchanged, and lesser prairie-chickens continue to warrant Federal listing as threatened. We have determined that the overall magnitude of threats to the lesser prairie-chicken throughout its range is moderate, and that the threats are ongoing, thus they are considered imminent. Consequently, a listing priority of 8 remains appropriate for the species. The magnitude of threats to lesser prairie-chickens rests primarily on the quality of existing habitat. At present, all States within occupied range of the lesser prairie-chicken are committing significant resources via personnel, outreach, and habitat improvement incentives to landowners to recover the species. The Service recognizes that measurable increases in populations often come years after certain habitat improvements occur. Barring additional unforeseen threats such as prolonged drought or development, the species' status is expected to improve in future years. Therefore, we select not to elevate the listing priority of the lesser prairie-chicken based on magnitude of threats at this time. However, the Service is concerned that remaining populations may become increasingly fragmented, and therefore vulnerable to local extinctions. This is particularly true for isolated populations of lesser prairie-chickens in the Permian Basin/western panhandle of Texas and areas south of highway 380 in southeastern New Mexico. The impending loss of these populations is of major concern to us, and efforts to address this possible loss are ongoing. However, the Service believes that, given all currently available information, the net benefits of ongoing conservation activities by the States, Federal agencies, and private groups, combined with the recent increase in both range and numbers in Kansas, exceed the latest negative trends of local populations in the southern periphery of occupied range. Should the current conservation momentum fail to stabilize and increase existing populations throughout significant portions of the remaining range, we must pursue elevating the listing priority of the species.

Yellow-billed cuckoo, western continental U.S. DPS (Coccyzus americanus)—The following summary is based on information contained in our files and the petition received on February 9, 1998. Also see our 12-month petition finding (66 FR 38611) published on July 25, 2001. While the cuckoo is still relatively common east of the crest of the Rocky Mountains, biologists estimate that more than 90 percent of the bird's riparian (streamside) habitat in the West has been lost or degraded. These modifications, and the resulting decline in the distribution and abundance of yellow-billed cuckoos throughout the western States, is believed to be due to conversion to agriculture; grazing; habitat degradation by competition from nonnative plants, such as tamarisk; river management, including altered flow and sediment regime; and flood control practices, such as channelization and bank protection. Based on nonimminent threats of a high magnitude, we assigned a listing priority number of 6 to this DPS of yellow-billed cuckoo.

Reptiles

Louisiana pine snake (Pituophis ruthveni)—The following summary is based on information contained in our files and the petition received on July 19, 2000. The Louisiana pine snake historically occurred in portions of west-central Louisiana and extreme east-central Texas. Louisiana pine snakes have not been documented in over a decade in some of the best remaining habitat within their historical range. Surveys and results of Louisiana pine snake trapping and radio-telemetry suggest that extensive population declines and local extirpations have occurred during the last 50 to 80 years. The quality of remaining Louisiana pine snake habitat has been degraded due to logging, fire suppression, short-rotation silviculture, and conversion of habitat to other uses such as grazing. Other factors affecting Louisiana pine snakes include low fecundity (reproductive output), which magnifies other threats and increases the likelihood of local extinctions, and vehicular mortality, which may cause significant impacts to the Louisiana pine snake's population numbers and community structure. Due to nonimminent threats of a high magnitude, we assigned a listing priority number of 5 to this species.

Cagle's map turtle (Graptemys caglei)—The following summary is based on information contained in our files and the petition received on April 26, 1991. Cagle's map turtle occurs in scattered sites in seven counties in Texas on the Guadalupe, San Marcos, and Blanco Rivers. Loss and degradation of riverine habitat from large and/or small impoundments (dams or reservoirs) is the primary threat to Cagle's map turtle. One detrimental effect of impoundment is the loss of riffle and riffle/pool transition areas used by males for foraging. Depending on its size, a dam itself may be a partial or complete barrier to Cagle's map turtle movements and could fragment a population. Construction of smaller impoundments and human activities on the river has likely eliminated or reduced foraging and basking habitats. Cagle's map turtle is also vulnerable to over collecting and target shooting, and current regulations are inadequate to protect this species. Due to nonimminent threats of a high magnitude, we assigned a listing priority number of 5 to this species.

Amphibians

Columbia spotted frog, Great Basin DPS (Rana luteiventris)—The following summary is based on information contained in our files and the petition received on May 1, 1989. Recent work by researchers in Idaho and Nevada has documented the loss of historically known sites, reduced numbers of individuals within local populations, and declines in the reproduction of those individuals. Since 1996, extensive surveys throughout southern Idaho and eastern Oregon have led to increases in the number of known Columbia spotted frog sites. However, most of these sites support only small numbers of frogs. Extensive monitoring at 10 of the 46 occupied sites since 1997 indicates a decline in the number of adult Columbia spotted frogs encountered. All known populations in southern Idaho and in eastern Oregon appear to be functionally isolated. Columbia spotted frog habitat degradation and fragmentation is probably a combined result of past and current influences of heavy livestock grazing, spring alterations, agricultural development, urbanization, and mining activities. Based on imminent threats of high magnitude, we assigned a listing priority number of 3 to this DPS of the Columbia spotted frog.

Oregon spotted frog (Rana pretiosa)—The following summary is based on information contained in our files and the petition received on May 4, 1989. Based on surveys of historic sites, the Oregon spotted frog is now absent from at least 76 percent of its former range. The species may be absent from as much as 90 percent of its former range because the collections of historic specimens did not adequately reflect its actual geographic and elevational range. Threats to the species' habitat include development, livestock grazing, introduction of nonnative plant species, changes in hydrology due to construction of dams and alterations to seasonal flooding, poor water quality, and water contamination. Additional threats to the species are predation by nonnative fish and introduced bullfrogs. Based on these threats, we assigned the Oregon spotted frog a listing priority number of 2. Note, the October 30, 2001, Candidate Notice of Review was incorrect in listing this species as a distinct population segment with a listing priority number of 3. The Oregon spotted frog is a full species, with no DPS designation, and, therefore, has a listing priority number of 2.

California tiger salamander (entire population except Sonoma County and where listed) (Ambystoma californiense)—The following summary is based on information contained in our files and the petition received on February 26, 1992. The California tiger salamander has been eliminated from 54 percent of its historic breeding sites and has lost an estimated 65 percent of its habitat. The distribution of the species is now discontinuous and fragmented throughout its range. All of the estimated seven genetic populations of this species have declined significantly because of urban and agricultural development, and other human-caused factors affecting breeding and upland habitat used for estivation and migration. Existing regulatory mechanisms are inadequate to protect California tiger salamander habitat. Based on nonimminent threats of a high magnitude, we assigned this species a listing priority number of 5.

California tiger salamander, Sonoma County DPS (Ambystoma californiense)—See above summary of new candidate species for discussion on why this population warrants listing. The above summary is based on information contained in our files and the petition received on June 13, 2001.

Boreal toad, Southern Rocky Mountains DPS (Bufo boreas boreas)—The following summary is based on information contained in our files and the petition received on September 30, 1993. Boreal toads of the Southern Rocky Mountain DPS were once common throughout much of the high elevations in Colorado, in the Snowy and Sierra Madre Ranges of southeast Wyoming, and at three breeding localities at the southern periphery of their range in the San Juan Mountains of New Mexico. In the late 1980s boreal toads were found to be absent from 83 percent of breeding localities in Colorado and 94 percent of breeding localities in Wyoming previously known to contain toads. In 1999, the number of known breeding localities increased from 33 to 50, with 1 in Wyoming, none in New Mexico, and the remaining sites in Colorado. This increase in known breeding localities, however, was likely due to survey efforts rather than expansion of the population. Land use in boreal toad habitat includes recreation, timber harvesting, livestock grazing, and watershed alteration activities. Though declines in toad numbers have not been directly linked to habitat alteration, activities that destroy, modify, or curtail habitat likely contribute to the continued decline in toad numbers. The current and future use of water rights in the Southern Rocky Mountains may impact boreal toads. Increased demands on limited water resources can result in water level drops in reservoirs that toads are using. Transferring rights from one user group to another (e.g., agricultural to municipal) also could reduce toad habitat, particularly if dewatering of reservoir sites resulted from these transfers. Additional threats to the boreal toad include a chytrid fungus, which likely caused the boreal toad to decline in the 1970s and continues to cause declines. Based on these threats, we assigned this DPS of boreal toad a listing priority number of 3.

Fishes

Gila chub (Gila intermedia)—The following summary is based on information contained in our files and the petition received on June 10, 1998. The Gila chub has been extirpated or reduced in numbers and distribution in the majority of its historical range. Over 70 percent of the Gila chub's habitat has been degraded or destroyed, and much of it is unrecoverable. Of the 15 remaining populations, most are small, isolated, and threatened, and only one population is considered secure. Wetland habitat degradation and loss is a major threat to the Gila chub. Human activities such as groundwater pumping, surface water diversions, impoundments, channelization, improper livestock grazing, vegetation manipulation, agriculture, mining, road building, nonnative species introductions, urbanization, and recreation all contribute to riparian loss and degradation in southern Arizona, thereby threatening this species. Based on imminent threats of a high magnitude, we assigned this species a listing priority number of 2. Although work on court-ordered section 4 actions have precluded us from issuing a proposed rule to date, despite the fact that this species has a listing priority number of 2, we recently entered into a settlement agreement on October 2, 2001 (Center for Biological Diversity, et al. v. Norton, Civ. No. 01-2063 (JR) (D.D.C.)) that will require us to deliver by July 31, 2002, a proposed listing rule with critical habitat to the Federal Register for publication.

Arctic grayling, upper Missouri River DPS (Thymallus arcticus)—The following summary is based on information contained in our files and the petition received on October 2, 1992. Currently, the only self-sustaining remnant of the indigenous fluvial Arctic grayling population exists in the Big Hole River, estimated to represent 5 percent or less of the historic range for this species in Montana and Wyoming. Reestablishment efforts are under way in four streams within the historic range. The Arctic grayling faces threats primarily from a decrease in available habitat as a result of dewatering of streams for irrigation and stock water, ongoing drought conditions, and habitat degradation from dams and reservoirs. Landowners and other interests are implementing actions to ensure adequate water conditions in the Big Hole River. Additionally, predation on or competition with Arctic grayling by nonnative trout are thought to be factors limiting grayling populations. Due to imminent threats of a low to moderate magnitude, we assigned this DPS of Arctic grayling a listing priority number of 9.

Snails

Chupadera springsnail (Pyrgulopsis chupaderae)—The following summary is based on information contained in our files and the petition received on November 20, 1985. This aquatic species is endemic to Willow Spring on the Willow Spring Ranch (formerly Cienega Ranch) at the south end of the Chupadera Mountains in Socorro County, New Mexico. The Chupadera springsnail has been documented from two hillside groundwater discharges that flow through grazed areas among rhyolitic gravels containing sand, mud, and hydrophytic plants. Regional and local groundwater depletion, springrun dewatering, and riparian habitat degradation represent the principal threats. The survival and recovery of the Chupadera springsnail is contingent upon protection of the riparian corridor immediately adjacent to Willow Spring, and the availability of perennial, oxygenated flowing water within the species' thermal range. Existing regulatory mechanisms are not sufficient to protect this species. New Mexico State law provides limited protection to the Chupadera springsnail, but this law does not provide for habitat protection. Because these threats are imminent and of a high magnitude, we assigned this species a listing priority number of 2. See above Summary of Listing Priority Changes in Candidates for an explanation on why we are changing the priority of this candidate.

Gila springsnail (Pyrgulopsis gilae)—The following summary is based on information contained in our files and the petition received on November 20, 1985. The Gila springsnail is an aquatic species known from 13 populations in New Mexico. The long-term persistence of the Gila springsnail is contingent upon protection of the riparian corridor immediately adjacent to springhead and springrun habitats, thereby ensuring the maintenance of perennial, oxygenated flowing water within the species' required thermal range. Sites on both private and Federal lands are subject to uncontrolled recreational use and livestock grazing, thus rendering the long-term survival of the Gila springsnail questionable. Natural events such as drought, forest fire, sedimentation, and flooding; wetland habitat degradation by recreational bathing in thermal springs; and poor watershed management practices such as overgrazing and inappropriate silviculture, represent the primary threats to the Gila springsnail. Fire suppression and retardant chemicals have potentially deleterious effects on this species. Existing regulatory mechanisms are not sufficient to protect the Gila springsnail. New Mexico State law provides limited protection to the Gila springsnail, but this law does not provide for habitat protection. Based on these nonimminent threats of a low magnitude, we assigned a listing priority number of 11 to this species.

New Mexico springsnail (Pyrgulopsis thermalis)—The following summary is based on information contained in our files and the petition received on November 20, 1985. The New Mexico springsnail is an aquatic species known from only two separate populations associated with a series of spring-brook systems along the Gila River in the Gila National Forest in Grant County, New Mexico. The long-term persistence of the New Mexico springsnail is contingent upon protection of the riparian corridor immediately adjacent to springhead and springrun habitats, thereby ensuring the maintenance of perennial, oxygenated flowing water within the species' required thermal range. While the New Mexico springsnail populations may be stable, the sites inhabited by the species are subject to uncontrolled recreational use and livestock grazing. Wetland habitat degradation via recreational use and overgrazing in or near the thermal springs and/or poor watershed management practices represent the primary threats to the New Mexico springsnail. Natural events such as drought, forest fire, sedimentation, and flooding may further imperil populations. Additionally, fire suppression and retardant chemicals have potentially deleterious effects on this species. Existing regulatory mechanisms are also not sufficient to protect the New Mexico springsnail. New Mexico State law provides limited protection to the New Mexico springsnail, but this law does not provide for habitat protection. Based on these nonimminent threats of a low magnitude, we assigned this species a listing priority number of 11.

Page springsnail (Pyrgulopsis morrisoni)—The following summary is based on information contained in our files and the petition received on April 12, 2002. The Page springsnail is a local endemic, and all extant populations are known to exist only within a complex of springs located within an approximately 1.5 kilometer (.93 miles) area along the west side of Oak Creek around the community of Page Springs, Yavapai County, Arizona. Many of the springs where the Page springsnail occurs have been subjected to some level of modification to meet domestic, agricultural, ranching, fish hatchery, and recreational needs. Pumping of the regional aquifer in excess of natural recharge could result in elimination of habitat occupied by the Page springsnail. Potential habitat degradation is likely from trespass cattle and the possible modification of spring heads to meet the needs of a commercial water bottling company. Other factors that have contributed to the decline of Page springsnail populations include the use of toxic substances, water quality degradation, and introduction of nonnative molluscs, such as Corbicula spp. Arizona Game and Fish Department (AGFD) management plans for the Bubbling Ponds and Page Springs fish hatcheries included commitments to replace lost habitat and to monitor remaining populations of invertebrates such as the Page springsnail. However, habitat restoration has been largely unsuccessful and monitoring has not been implemented. Because these threats are imminent and of a high magnitude, we assigned a listing priority number of 2 to this species.

Insects

Coral Pink Sand Dunes tiger beetle (Cicindela limbata albissima)—The following summary is based on information contained in our files, including information from the petition received on April 21, 1994. The Coral Pink Sand Dunes tiger beetle is known to occur only at Coral Pink Sand Dunes, about 7 miles west of Kanab, Kane County, in south-central Utah. It is restricted mostly to a small part of the approximately 13-kilometer (8-mile) long dune field, situated at an elevation of about 1,820 m (6,000 ft). The subspecies' habitat is being adversely impacted by ongoing recreational off-road vehicle (ORV) use. The ORV activity is destroying and degrading the species' habitat, especially the interdunal swales used by the larval population. Having the greatest abundance of suitable prey species, the interdunal swales are the most biologically productive areas in this ecosystem. The continued survival of the species depends on the preservation of the species and its habitat at its only breeding reproductive site and the probable need to establish or reestablish additional reproductive subpopulations in other suitable habitat sites. The species population is also vulnerable to overcollecting by professional and hobby tiger beetle collectors, although quantification of this threat is difficult without continuous monitoring of the species population. The State of Utah and the Bureau of Land Management have designated most of the species habitat as a conservation area, where they have placed significant restrictions on ORV use. Their actions have lowered the magnitude of threat to this subspecies. Based on imminent threats of a low to moderate magnitude, we assigned this subspecies a listing priority number of 9.

Flowering Plants

Christ's paintbrush (Castilleja christii)—The following summary is based on information contained in our files and the petition received on January 2, 2001. Castilleja christii is endemic to subalpine meadow and sagebrush habitats in the upper elevations of the Albion Mountains, Cassia County, Idaho. The single population of this species, which covers only 81 ha (200 ac), is restricted to the summit of Mount Harrison. The population appears to be stable, although the species is threatened by a variety of activities including unauthorized ORV use that results in erosion of the plant's habitat and mortality of individual plants. Livestock grazing can adversely affect C. christii by trampling and/or consuming plants, which results in reduced reproductive success; grazing occurred in the area where C. christii exists during 1999, but not in 2000. In addition, road maintenance activities and trampling by hikers potentially affect this species. Because the threats are of a low to moderate magnitude and nonimminent, we assigned this species a listing priority number of 11.

San Fernando Valley spineflower (Chorizanthe parryi fernandina)—The following summary is based on information contained in our files and the petition received on December 14, 1999. Chorizanthe parryi var. fernandina was thought to be extinct, but its rediscovery was disclosed in the late spring of 1999. The plant currently is known from two disjunct localities. The first locality is in the southeastern portion of Ventura County, on a site approved for development, where it was found and identified by consultants employed by the developer. The second is located in southwestern Los Angeles County on a site with approved development plans. As currently planned, it is likely that construction of proposed development will extirpate the first population in Ventura County. It is unclear how the development in Los Angeles will affect that population. The majority of the historical collections of this plant from the greater Los Angeles metropolitan area were made from areas where urban, agricultural, and industrial development have replaced native habitats. During the last few decades, numerous field botanists have been unable to locate the species, even where historically recorded, largely due to the alteration and loss of suitable habitat. San Fernando Valley spineflower is also threatened by invasive nonnative plants, including grasses, that potentially fragment suitable habitat; displace it from available habitat; compete for light, water, and nutrients; and reduce survival and establishment. This plant is particularly vulnerable to extinction due to its two isolated populations. Species with few populations and disjunct distributions are vulnerable to naturally occurring, random events. Because of imminent threats of a high magnitude, we assigned a listing priority number of 3 to this plant.

Slick spot peppergrass (Lepidium papilliferum)—The following summary is based on information contained in our files and the petition received on April 9, 2001. Lepidium papilliferum is an annual or biennial that occurs in sagebrush-steppe habitats at approximately 670 meters (m) (2,200 feet (ft)) to 1,615 m (5,300 ft) elevation in southwestern Idaho. The total amount of currently occupied L. papilliferum habitat is less than 31.8 ha (78.4 ac), and the amount of high-quality occupied habitat for this species is less than 1.3 ha (3.3 ac). The documented extirpation rate for this taxon is the highest known of any Idaho rare plant species. This species is threatened by a variety of activities including urbanization, gravel mining, irrigated agriculture, habitat degradation due to cattle and sheep grazing, fire and fire rehabilitation activities, and continued invasion of habitat by nonnative plant species. Because the majority of populations are extremely small and existing habitat is fragmented by agricultural conversion, fire, grazing, roads, and urbanization, local extirpation is a threat to this species. Based on immediate threats of a high magnitude, we assigned this species a listing priority number of 2. Although work on court-ordered section 4 actions have precluded us from issuing a proposed rule to date, despite the fact that this species has a listing priority number of 2, we recently entered into a settlement agreement on March 29, 2002 (Committee for Idaho's High Desert. v. Badgley, Civ. No. 01-1641-AS (D.Or.)) that will require us to deliver by July 15, 2002, a proposed listing rule to the Federal Register for publication.

White River beardtongue (Penstemon scariosus albifluvis)—The following summary is based on information contained in our files and the petition received on October 27, 1983. The White River beardtongue is restricted to calcareous soils derived from oil shale barrens of the Green River Formation in the Uinta Basin of northeastern Utah and adjacent Colorado. Most of the occupied habitat of the White River beardtongue is within developed and expanding oil and gas fields. Several wells and access roads are within the species' occupied habitat. The location of the species' habitat exposes it to destruction from ORV use, and road, pipeline, and well-site construction in connection with oil and gas development. With such a small population and limited occupied habitat, any destruction, modification, or curtailment of the habitat would have a highly negative impact on the species. Additionally, the species is heavily grazed by wildlife and livestock and is vulnerable to livestock trampling. Currently, no Federal or State laws specifically protect the White River beardtongue. Based on nonimminent threats of a high magnitude, we assigned this subspecies a listing priority number of 6.

Tahoe yellow cress (Rorippa subumbellata)—The following summary is based on information contained in our files and the petition received on December 27, 2000. Tahoe yellow cress is a small, perennial herb known only from the shores of Lake Tahoe in California and Nevada. Based on presence/absence information, it has been determined that the Tahoe yellow cress has been extirpated from 10 of 52 historic locations. Tahoe yellow cress occurs in a dynamic environment affected by both natural processes and human activities. Under natural conditions, Tahoe yellow cress is apparently tolerant of the dynamic nature of its habitat and is adapted for survival in a disturbance regime. However, due to the combination of unnatural lake level fluctuation due to dam operations and other human activities, habitat conditions are no longer considered natural. Heavy recreational use of the beaches may result in the direct loss of individual plants as well as the degradation of habitat through compaction and mixing of sandy substrates. Based on imminent threats of a high magnitude, we assigned this species a listing priority number of 2.

Ferns and Allies

Botrychium lineare (slender moonwort)—The following summary is based on information contained in our files and the petition received on July 28, 1999. Also see our 12-month petition finding (66 FR 30368) published on June 6, 2001. Botrychium lineare is a small perennial fern that is currently known from a total of nine populations in Colorado, Oregon, Montana, and Washington. In addition to these currently known populations, historic populations were previously known from Idaho (Boundary County), Montana (Lake County), California (Fresno County), Colorado (Boulder County), and Canada (Quebec and New Brunswick). However, they have not been seen for at least 20 years and may be extirpated (Wagner and Wagner 1994). Since the 12-month petition finding was published we received some additional information regarding the status and distribution of B. lineare. Two new population sites of B. lineare were tentatively identified in 2001, one site each in Idaho and Nevada, with an additional historic site discovered from a herbarium specimen collected in Utah in 1905. One researcher is intending to obtain fresh specimens from the Idaho and Nevada sites during 2002 for electrophoretic confirmation, in addition to visiting an historic B. lineare site in California. The species seems to be a habitat generalist and is often found in disturbed habitats along roadsides. Therefore, conclusions regarding B. lineare's overall distribution and specific habitat requirements, along with identifying possible conservation needs, are problematic at this time. A specific habitat description for the species is problematic because of its current and historically disjunct distribution ranging from sea level in Quebec to nearly 3,000 meters (9,840 ft) in Boulder County, Colorado. Some botanists consider B. lineare to be a habitat generalist and believe that it is a rare plant that is difficult to survey for and observe in the wild and is often found along roadsides in disturbed habitats. Identifiable threats to various populations of this species include road maintenance and herbicide spraying (e.g., in Glacier National Park and on the Blackfeet Indian Reservation), recreation, timber harvest, trampling, and development. Botrychium lineare may also be affected by grazing from livestock or wildlife, but specific effects of grazing on the species are unknown. However, if grazing by livestock or wildlife species occurs prior to the maturation and release of spores, the capacity for sexual reproduction of affected plants may be compromised. Botrychium lineare is considered a sensitive species in Regions 2, 5, and 6 of the Forest Service, which include extant and historical B. lineare sites found in Colorado, Oregon, Washington, and California. Because this species is listed under these regional sensitive species lists, the Forest Service has regulations that address the need to protect this species. Forest Service Regions 1, 4, and 5, which include extant and historical sites found in Montana and Idaho, do not have B. lineare on their regional sensitive species lists and it is, therefore, not given any special consideration. Although Botrychium lineare is considered to be rare and imperiled by the State natural heritage programs in Colorado, Montana, Oregon, and Washington, the State heritage program rankings are not legal designations and do not confer State regulatory protection to this species. Because we concluded that the overall magnitude of threats to B. lineare throughout its range is moderate and the overall immediacy of these threats is nonimminent, we assigned this species a listing priority number of 11. Although we are not proposing a listing priority change or removal of candidate status at this time, any new information we receive on the distribution and threat/conservation actions of B. lineare may have a bearing on whether listing under the Endangered Species Act is still warranted.

Petitions To Reclassify Species Already Listed

We have also previously made warranted but precluded findings on five petitions that sought to reclassify threatened species to endangered status. Because these species are already listed, they are not technically candidates for listing and are not included in Table 1. However, this notice also constitutes the recycled petition findings for these species. We find that reclassification to endangered status is currently warranted but precluded by work identified above (see Petition of a Candidate Species) for the:

(1) North Cascades ecosystem grizzly bear (Ursus arctos horribilis) DPS (Region 6) (see 63 FR 30453, June 4, 1998, and the candidate form for a discussion on why reclassification is warranted);

(2) Cabinet-Yaak grizzly bear DPS (Region 6) (see 64 FR 26725, May 17, 1999, and the candidate form for a discussion on why reclassification is warranted);

(3) Selkirk grizzly bear DPS (Region 6) (see 64 FR 26725, May 17, 1999, for a discussion on why reclassification is warranted);

(4) Spikedace (Meda fulgida) (Region 2) (see 59 FR 35303 and the candidate form for a discussion on why reclassification is warranted); and

(5) Loach minnow (Tiaroga cobitis) (Region 2) (see 59 FR 35303 and the candidate form for a discussion on why reclassification is warranted).

Progress in Revising the Lists

As described in section 4(b)(3)(B)(iii) of the Act, in order for us to make a warranted but precluded finding on a petitioned action, we must be making expeditious progress to add qualified species to the Lists and to remove from the Lists species for which the protections of the Act are no longer necessary. This notice describes our progress in revising the lists since our October 30, 2001, publication of the last CNOR. We intend to publish these descriptions annually.

Our progress in listing and delisting qualified species since October 30, 2001, is represented by the publication in the Federal Register of final listing actions for 6 species, emergency listing actions for 3 species, proposed listing actions for 10 species, and proposed delisting actions for 3 species. In addition, we proposed critical habitat for 184 listed species, reproposed critical habitat for 215 species, and finalized critical habitat for 3 listed species. Given our limited budget for implementing section 4 of the Act, these achievements constitute expeditious progress.

Request for Information

We request you submit any further information on the species named in this notice as soon as possible or whenever it becomes available. We are particularly interested in any information:

(1) Indicating that we should add a species to the list of candidate species;

(2) Indicating that we should remove a species from candidate status;

(3) Recommending areas that we should designate as critical habitat for a species, or indicating that designation of critical habitat would not be prudent for a species;

(4) Documenting threats to any of the included species;

(5) Describing the immediacy or magnitude of threats facing candidate species;

(6) Pointing out taxonomic or nomenclature changes for any of the species;

(7) Suggesting appropriate common names; or

(8) Noting any mistakes, such as errors in the indicated historical ranges.

Submit your comments regarding a particular species to the Regional Director of the Region identified as having the lead responsibility for that species. The regional addresses follow:

Region 1. California, Hawaii, Idaho, Nevada, Oregon, Washington, American Samoa, Guam, and Commonwealth of the Northern Mariana Islands.

Regional Director (TE), U.S. Fish and Wildlife Service, Eastside Federal Complex, 911 NE. 11th Avenue, Portland, Oregon 97232-4181 (503/231-6158).

Region 2. Arizona, New Mexico, Oklahoma, and Texas.

Regional Director (TE), U.S. Fish and Wildlife Service, 500 Gold Avenue SW., Room 4012, Albuquerque, New Mexico 87102 (505/248-6920).

Region 3. Illinois, Indiana, Iowa, Michigan, Minnesota, Missouri, Ohio, and Wisconsin.

Regional Director (TE), U.S. Fish and Wildlife Service, Bishop Henry Whipple Federal Building, One Federal Drive, Fort Snelling, Minnesota 55111-4056 (612/713-5334).

Region 4. Alabama, Arkansas, Florida, Georgia, Kentucky, Louisiana, Mississippi, North Carolina, South Carolina, Tennessee, Puerto Rico, and the U.S. Virgin Islands.

Regional Director (TE), U.S. Fish and Wildlife Service, 1875 Century Boulevard, Suite 200, Atlanta, Georgia 30345 (404/679-4156).

Region 5. Connecticut, Delaware, District of Columbia, Maine, Maryland, Massachusetts, New Hampshire, New Jersey, New York, Pennsylvania, Rhode Island, Vermont, Virginia, and West Virginia.

Regional Director (TE), U.S. Fish and Wildlife Service, 300 Westgate Center Drive, Hadley, Massachusetts 01035-9589 (413/253-8615).

Region 6. Colorado, Kansas, Montana, Nebraska, North Dakota, South Dakota, Utah, and Wyoming.

Regional Director (TE), U.S. Fish and Wildlife Service, P.O. Box 25486, Denver Federal Center, Denver, Colorado 80225-0486 (303/236-7400).

Region 7. Alaska.

Regional Director (TE), U.S. Fish and Wildlife Service, 1011 East Tudor Road, Anchorage, Alaska 99503-6199 (907/786-3505).

Our practice is to make comments, including names and home addresses of respondents, available for public inspection. Individual respondents may request that we withhold their home address from the public record, which we will honor to the extent allowable by law. In some circumstances, we can also withhold from the public record a respondent's identity, as allowable by law. If you wish for us to withhold your name and/or address, you must state this request prominently at the beginning of your comments. However, we will not consider anonymous comments. We will make all submissions from organizations or businesses, and from individuals identifying themselves as representatives or officials of organizations or businesses, available for public inspection in their entirety.

Authority

This notice is published under the authority of the Endangered Species Act (16 U.S.C. 1531 et seq.).

Dated: June 3, 2002.
Steve Williams,
Director, Fish and Wildlife Service.

Table 1.—Candidate Notice of Review (animals and plants)
Status: Category | Status: Priority | Lead region | Scientific name | Family | Common name | Historic range
Mammals
PT | 3 | R1 | Pteropus mariannus mariannus | Pteropodidae | Bat, Mariana fruit (=Mariana flying fox) | Western Pacific Ocean, U.S.A. (GU, MP).
C* | 3 | R1 | Emballonura semicaudata | Emballonuridae | Bat, sheath-tailed (American Samoa, Aguijan DPS) | U.S.A. (AS, GU, MP), Caroline Islands.
PE | 3 | R1 | Urocyon littoralis littoralis | Canidae | Fox, San Miguel Island | U.S.A. (CA).
PE | 3 | R1 | Urocyon littoralis catalinae | Canidae | Fox, Santa Catalina Island | U.S.A. (CA).
PE | 3 | R1 | Urocyon littoralis santacruzae | Canidae | Fox, Santa Cruz Island | U.S.A. (CA).
PE | 3 | R1 | Urocyon littoralis santarosae | Canidae | Fox, Santa Rosa Island | U.S.A. (CA).
C* | 3 | R7 | Enhydra lutris kenyoni | Mustelidae | Otter, Northern Sea (southwest Alaska DPS) | U.S.A. (AK).
C | 6 | R1 | Thomomys mazama (all ssp.) | Geomyidae | Pocket gopher, Mazama | U.S.A. (WA).
C* | 8 | R6 | Cynomys ludovicianus | Sciuridae | Prairie dog, black-tailed | U.S.A. (AZ, CO, KS, MT, NE, NM, ND, OK, SD, TX, WY), Canada, Mexico.
PE | N/A | R1 | Brachylagus idahoensis | Leporidae | Rabbit, pygmy (Columbia Basin DPS) | U.S.A. (CA, ID, MT, NV, OR, UT, WA, WY).
C | 6 | R1 | Spermophilus tereticaudus chlorus | Sciuridae | Squirrel, Coachella Valley round-tailed ground | U.S.A. (CA).
C* | 3 | R1 | Spermophilus brunneus endemicus | Sciuridae | Squirrel, Southern Idaho ground | U.S.A. (ID).
C* | 2 | R1 | Spermophilus washingtoni | Sciuridae | Squirrel, Washington ground | U.S.A. (WA, OR).
Birds
C | 6 | R1 | Porzana tabuensis | Rallidae | Crake, spotless (American Samoa DPS) | U.S.A. (AS), Fiji, Marquesas, Polynesia, Philippines, Australia, Society Islands, Tonga, Western Samoa.
C | 5 | R1 | Oreomystis bairdi | Fringillidae | Creeper, Kauai | U.S.A. (HI).
C* | 6 | R1 | Coccyzus americanus occidentalis | Cuculidae | Cuckoo, western yellow-billed (Western U.S. DPS) | U.S.A. (AZ, CA, CO, ID, MT, NM, NV, OR, TX, UT, WA, WY), Canada, Mexico, Central & South America.
C | 6 | R1 | Gallicolumba stairi | Columbidae | Dove, friendly ground (American Samoa DPS) | U.S.A. (AS), Fiji, Tonga, Western Samoa.
C | 6 | R1 | Ptilinopus perousii perousii | Columbidae | Dove, many-colored fruit | U.S.A. (AS).
C* | 5 | R6 | Centrocercus minimus | Phasianidae | Grouse, Gunnison sage | U.S.A. (AZ, CO, KS, OK, NM, UT).
C* | 6 | R1 | Centrocercus urophasianus phaios | Phasianidae | Grouse, western (Columbia basin DPS) | U.S.A. (OR, WA), Canada (BC).
C | 6 | R1 | Eremophila alpestris strigata | Alaudidae | Horned lark, streaked | U.S.A. (OR, WA), Canada (BC).
PT | 2 | R6 | Charadrius montanus | Charadriidae | Plover, mountain | U.S.A. (western), Canada, Mexico.
C* | 8 | R2 | Tympanuchus pallidicinctus | Phasianidae | Prairie-chicken, lesser | U.S.A. (CO, KA, NM, OK, TX).
C* | 3 | R1 | Oceanodroma castro | Hyrobatidae | Storm-petrel, band-rumped (Hawaii DPS) | U.S.A. (HI).
C | 5 | R4 | Dendroica angelae | Emberizidae | Warbler, elfin woods | U.S.A. (PR).
PE | 2 | R1 | Zosterops rotensis | Zosteropidae | White-eye, Rota bridled | U.S.A. (MP).
Reptiles
C | 2 | R2 | Sceloporus arenicolus | Iguanidae | Lizard, sand dune | U.S.A. (TX, NM).
C | 9 | R3 | Sistrurus catenatus catenatus | Viperidae | Massasauga (=rattlesnake), eastern | U.S.A. (IA, IL, IN, MI, MO, MN, NY, OH, PA, WI), Canada.
C | 6 | R4 | Pituophis melanoleucus lodingi | Colubridae | Snake, black pine | U.S.A. (AL, LA, MS).
C* | 5 | R4 | Pituophis ruthveni | Colubridae | Snake, Louisiana pine | U.S.A. (LA, TX).
C* | 5 | R2 | Graptemys caglei | Emydidae | Turtle, Cagle's map | U.S.A. (TX).
C | 3 | R2 | Kinosternon sonoriense longifemorale | Kinosternidae | Turtle, Sonoyta mud | U.S.A. (AZ), Mexico.
Amphibians
PT | 2 | R2 | Rana chiricahuensis | Ranidae | Frog, Chiricahua leopard | U.S.A. (AZ, NM), Mexico.
C* | 3 | R1 | Rana luteiventris | Ranidae | Frog, Columbia spotted (Great Basin DPS) | U.S.A. (ID, NV, OR).
PE | ⁽¹⁾ | R1 | Rana muscosa | Ranidae | Frog, mountain yellow-legged (southern California DPS) | U.S.A. (CA, NV) including San Diego, Orange, Riverside, San Bernardino, and Los Angeles Counties.
C* | 2 | R1 | Rana pretiosa | Ranidae | Frog, Oregon spotted | U.S.A. (CA, OR, WA), Canada (BC).
C | 5 | R1 | Rana onca | Ranidae | Frog, relict leopard | U.S.A. (AZ, NV, UT).
C | 6 | R4 | Cryptobranchus alleganiensis bishopi | Crytobranchidae | Hellbender, Ozark | U.S.A. (AR, MO).
C | 2 | R2 | Eurycea waterlooensis | Plethodontidae | Salamander, Austin blind | U.S.A. (TX).
C* | 5 | R1 | Ambystoma californiense | Ambystomatidae | Salamander, California tiger (Entire, except Sonoma County and where listed as endangered) | U.S.A. (CA).
C* | 3 | R1 | Ambystoma californiense | Ambystomatidae | Salamander, California tiger (U.S.A. CA—Sonoma County DPS) | U.S.A. (CA).
C | 2 | R2 | Eurycea naufragia | Plethodontidae | Salamander, Georgetown | U.S.A. (TX).
C | 2 | R2 | Eurycea chisholmensis | Plethodontidae | Salamander, Salado | U.S.A. (TX).
C* | 3 | R6 | Bufo boreas boreas | Bufonidae | Toad, boreal (Southern Rocky Mountains DPS) | U.S.A. (CO, NM, WY).
C | 5 | R4 | Necturus alabamensis | Proteidae | Waterdog, black warrior | U.S.A. (AL).
Fishes
PE | 3 | R1 | Gila bicolor vaccaceps | Cyprinidae | Chub, Cowhead Lake tui | U.S.A. (CA).
C* | 2 | R2 | Gila intermedia | Cyprinidae | Chub, Gila | U.S.A. (AZ, NM), Mexico.
C | 11 | R6 | Etheostoma cragini | Percidae | Darter, Arkansas | U.S.A. (AR, CO, KS, MO, OK).
C | 6 | R4 | Etheostoma nigrum susanae | Percidae | Darter, Cumberland johnny | U.S.A. (KY, TN).
C | 5 | R4 | Percina aurora | Percidae | Darter, Pearl | U.S.A. (LA, MS).
C | 5 | R4 | Etheostoma phytophilum | Percidae | Darter, rush | U.S.A. (AL).
C | 2 | R4 | Etheostoma moorei | Percidae | Darter, yellowcheek | U.S.A. (AR).
C* | 9 | R6 | Thymallus arcticus | Salmonidae | Grayling, Arctic (upper Missouri River DPS) | U.S.A. (MT, WY).
C | 2 | R4 | Noturus sp. | Ictaluridae | Madtom, chucky | U.S.A. (TN).
C | 2 | R3 | Cottus sp. | Cottidae | Sculpin, grotto | U.S.A. (MO).
C | 5 | R2 | Notropis oxyrhynchus | Cyprinidae | Shiner, sharpnose | U.S.A. (TX).
C | 5 | R2 | Notropis buccula | Cyprinidae | Shiner, smalleye | U.S.A. (TX).
C | 3 | R2 | Catostomus discobolus yarrowi | Catostomidae | Sucker, Zuni bluehead | U.S.A. (AZ, NM).
PT | 6 | R1 | Oncorhynchus clarki clarki | Salmonidae | Trout, coastal cutthroat (Southwestern WA/Columbia River DPS) | U.S.A. (AK, CA, OR, WA), Canada (BC).
PSAT | N/A | R1 | Salvelinus malma | Salmonidae | Trout, Dolly Varden | U.S.A. (AK, OR, WA), Canada, East Asia.
Clams
C | 5 | R4 | Pleurobema troschelianum | Unionidae | Clubshell, Alabama | U.S.A. (AL, GA, TN).
C | 5 | R4 | Pleurobema chattanoogaense | Unionidae | Clubshell, painted | U.S.A. (AL, GA, TN).
C | 2 | R2 | Popenaias popei | Unionidae | Hornshell, Texas | U.S.A. (NM, TX), Mexico
C | 5 | R4 | Ptychobranchus subtentum | Unionidae | Kidneyshell, fluted | U.S.A. (AL, KY, TN, VA).
C | 5 | R4 | Lampsilis rafinesqueana | Unionidae | Mucket, Neosho | U.S.A. (AR, KS, MO, OK).
C | 2 | R4 | Margaritifera marrianae | Margaritiferidae | Pearlshell, Alabama | U.S.A. (AL).
C | 5 | R4 | Lexingtonia dolabelloides | Unionidae | Pearlymussel, slabside | U.S.A. (AL, KY, TN, VA).
C | 5 | R4 | Pleurobema hanleyanum | Unionidae | Pigtoe, Georgia | U.S.A. (AL, GA, TN).
C | 5 | R4 | Elliptio spinosa | Unionidae | Spinymussel, Altamaha | U.S.A. (GA).
Snails
PE | 1 | R3 | Antrobia culveri | Hydrobiidae | Cavesnail, Tumbling Creek | U.S.A. (MO).
C | 9 | R6 | Oreohelix peripherica wasatchensis | Oreohelicidae | Mountainsnail, Ogden Deseret | U.S.A. (UT).
C | 2 | R6 | Stagnicola bonnevilensis | Lymnaeidae | Pondsnail, Bonneville | U.S.A. (UT).
C | 2 | R1 | Pyrgulopsis notidicola | Hydrobiidae | Pyrg, elongate mud meadows | U.S.A. (NV).
C | 5 | R4 | Leptoxis downei | Pleuroceridae | Rocksnail, Georgia | U.S.A. (GA, AL).
C | 2 | R1 | Ostodes strigatus | Potaridae | Sisi | U.S.A. (AS).
C | 2 | R2 | Tryonia adamantina | Hydrobiidae | Snail, Diamond Y Spring | U.S.A. (TX).
C | 2 | R1 | Samoana fragilis | Partulidae | Snail, fragile tree | U.S.A. (GU, MP).
C | 2 | R1 | Partula radiolata | Partulidae | Snail, Guam tree | U.S.A. (GU).
C | 2 | R1 | Partula gibba | Partulidae | Snail, Humped tree | U.S.A. (GU, MP).
PE | 2 | R2 | Tryonia kosteri | Hydrobiidae | Snail, Koster's tryonia | U.S.A. (NM).
C | 2 | R1 | Partulina semicarinata | Achatinellidae | Snail, Lanai tree | U.S.A. (HI).
C | 2 | R1 | Partulina variabilis | Achatinellidae | Snail, Lanai tree | U.S.A. (HI).
C | 2 | R1 | Partula langfordi | Partulidae | Snail, Langford's tree | U.S.A. (MP).
PE | 2 | R2 | Assiminea pecos | Assimineidae | Snail, Pecos assiminea | U.S.A. (NM, TX), Mexico.
C | 2 | R2 | Cochliopa texana | Hydrobiidae | Snail, Phantom Lake cave | U.S.A. (TX).
C | 2 | R1 | Eua zebrina | Partulidae | Snail, Tutuila tree | U.S.A. (AS).
C | 2 | R2 | Tryonia cheatumi | Hydrobiidae | Springsnail (=Tryonia), Phantom | U.S.A. (TX).
C* | 2 | R2 | Pyrgulopsis chupaderae | Hydrobiidae | Springsnail, Chupadera | U.S.A. (NM).
C* | 11 | R2 | Pyrgulopsis gilae | Hydrobiidae | Springsnail, Gila | U.S.A. (NM).
C | 2 | R2 | Tryonia circumstriata (=stocktonensis) | Hydrobiidae | Springsnail, Gonzales | U.S.A. (TX)
C | 5 | R2 | Pyrgulopsis thompsoni | Hydrobiidae | Springsnail, Huachuca | U.S.A. (AZ), Mexico.
C* | 11 | R2 | Pyrgulopsis thermalis | Hydrobiidae | Springsnail, New Mexico | New U.S.A. (NM).
C* | 2 | R2 | Pyrgulopsis morrisoni | Hydrobiidae | Springsnail, Page | U.S.A. (AZ).
PE | 2 | R2 | Pyrgulopsis roswellensis | Hydrobiidae | Springsnail, Roswell | U.S.A. (NM).
C | 2 | R2 | Pyrgulopsis trivialis | Hydrobiidae | Springsnail, Three Forks | U.S.A. (AZ).
C | 5 | R1 | Newcombia cumingi | Achatinellidae | Tree snail, Newcomb's | U.S.A. (HI)
Insects
C | 11 | R6 | Zaitzevia thermae | Elmidae | Beetle, Warm Springs Zaitzevian riffle | U.S.A. (MT).
C | 2 | R1 | Nysius wekiuicola | Lygaeidae | Bug, Wekiu | U.S.A. (HI).
C | 3 | R1 | Hypolimnas octucula mariannensis | Nymphalidae | Butterfly, Mariana eight-spot | U.S.A. (GU, MP).
C | 2 | R1 | Vagrans egestina | Nymphalidae | Butterfly, Mariana wandering | U.S.A. (GU, MP).
PE | N/A | R2 | Euphydryas anicia cloudcrofti | Nymphalidae | Butterfly, Sacramento Mountains checkerspot | U.S.A. (NM).
C | 6 | R1 | Euphydryas editha taylori | Nymphalidae | Butterfly, whulge checkerspot (=Taylor's) | U.S.A. (OR, WA), Canada (BC).
C | 5 | R4 | Glyphopsyche sequatchie | Limnephilidae | Caddisfly, Sequatchie | U.S.A. (TN).
C | 5 | R4 | Pseudanophthalmus major | Carabidae | Cave beetle, beaver | U.S.A. (KY).
C | 5 | R4 | Pseudanophthalmus caecus | Carabidae | Cave beetle, Clifton | U.S.A. (KY).
C | 5 | R4 | Pseudanophthalmus pholeter | Carabidae | Cave beetle, greater Adams | U.S.A. (KY).
C | 5 | R5 | Pseudanophthalmus holsingeri | Carabidae | Cave Beetle, Holsinger's | U.S.A. (VA).
C | 5 | R4 | Pseudanophthalmus frigidus | Carabidae | Cave beetle, icebox | U.S.A. (KY).
C | 5 | R4 | Pseudanophthalmus inquisitor | Carabidae | Cave beetle, inquirer | U.S.A. (TN).
C | 5 | R4 | Pseudanophthalmus cataryctos | Carabidae | Cave beetle, lesser Adams | U.S.A. (KY).
C | 5 | R4 | Pseudanophthalmus troglodytes | Carabidae | Cave beetle, Louisville | U.S.A. (KY).
C | 5 | R4 | Pseudanophthalmus inexpectatus | Carabidae | Cave beetle, surprising | U.S.A. (KY).
C | 5 | R4 | Pseudanophthalmus parvus | Carabidae | Cave beetle, Tatum | U.S.A. (KY).
C | 9 | R1 | Megalagrion nigrohamatum nigrolineatum | Coenagrionidae | Damselfly, blackline Hawaiian | U.S.A. (HI).
C | 2 | R1 | Megalagrion leptodemus | Coenagrionidae | Damselfly, crimson Hawaiian | U.S.A. (HI).
C | 2 | R1 | Megalagrion nesiotes | Coenagrionidae | Damselfly, flying earwig Hawaiian | U.S.A. (HI).
C | 2 | R1 | Megalagrion oceanicum | Coenagrionidae | Damselfly, oceanic Hawaiian | U.S.A. (HI).
C | 8 | R1 | Megalagrion xanthomelas | Coenagrionidae | Damselfly, orangeblack Hawaiian | U.S.A. (HI).
C | 2 | R1 | Megalagrion pacificum | Coenagrionidae | Damselfly, Pacific Hawaiian | U.S.A. (HI).
C | 5 | R1 | Phaeogramma sp | Tephritidae | Gall fly, Po'olanui | U.S.A. (HI).
PE | 2 | R1 | Drosophila aglaia | Drosophilidae | Pomace fly, [unnamed] | U.S.A. (HI).
C | 2 | R1 | Drosophila attigua | Drosophilidae | Pomace fly, [unnamed] | U.S.A. (HI).
C | 2 | R1 | Drosophila digressa | Drosophilidae | Pomace fly, [unnamed] | U.S.A. (HI).
PE | 2 | R1 | Drosophila heteroneura | Drosophilidae | Pomace fly, [unnamed] | U.S.A. (HI).
PE | 2 | R1 | Drosophila montgomeryi | Drosophilidae | Pomace fly, [unnamed] | U.S.A. (HI).
PE | 2 | R1 | Drosophila mulli | Drosophilidae | Pomace fly, [unnamed] | U.S.A. (HI).
PE | 2 | R1 | Drosophila musaphila | Drosophilidae | Pomace fly, [unnamed] | U.S.A. (HI).
PE | 2 | R1 | Drosophila neoclavisetae | Drosophilidae | Pomace fly, [unnamed] | U.S.A. (HI).
PE | 2 | R1 | Drosophila obatai | Drosophilidae | Pomace fly, [unnamed] | U.S.A. (HI).
PE | 2 | R1 | Drosophila substenoptera | Drosophilidae | Pomace fly, [unnamed] | U.S.A. (HI).
PE | 2 | R1 | Drosophila tarphytrichia | Drosophilidae | Pomace fly, [unnamed] | U.S.A. (HI).
PE | 2 | R1 | Drosophila hemipeza | Drosophilidae | Pomace fly, [unnamed] | U.S.A. (HI).
PE | 2 | R1 | Drosophila ochrobasis | Drosophilidae | Pomace fly, [unnamed] | U.S.A. (HI).
PE | 2 | R1 | Drosophila differens | Drosophilidae | Pomace fly, [unnamed] | U.S.A. (HI).
C | 5 | R2 | Heterelmis stephani | Elmidae | Riffle beetle, Stephan's | U.S.A. (AZ).
PE | 3 | R1 | Pseudocopaeodes eunus obscurus | Hesperiidae | Skipper, Carson wandering | U.S.A. (CA, NV).
C | 11 | R3 | Hesperia dacotae | Hesperiidae | Skipper, Dakota | U.S.A. (MN, IA, SD, ND, IL), Canada.
C | 5 | R1 | Polites mardon | Hesperiidae | Skipper, Mardon | U.S.A. (CA, OR, WA).
C* | 9 | R6 | Cicindela limbata albissima | Cicindelidae | Tiger beetle, Coral Pink Sand Dunes | U.S.A. (UT).
C | 5 | R4 | Cicindela highlandensis | Cicindelidae | Tiger beetle, highlands | U.S.A. (FL).
C | 3 | R6 | Cicindela nevadica lincolniana | Cicindelidae | Tiger beetle, Salt Creek | U.S.A. (NE).
Arachnids
C | 2 | R2 | Cicurina wartoni | Dictynidae | Meshweaver, Warton's cave | U.S.A. (TX).
Crustaceans
PE | N/A | R2 | Gammarus desperatus | Gammaridae | Amphipod, Noel's | U.S.A. (NM).
C | 11 | R4 | Fallicambarus gordoni | Cambaridae | Crayfish, Camp Shelby burrowing | U.S.A. (MS).
C | 2 | R1 | Metabetaeus lohena | Alpheidae | Shrimp, anchialine pool | U.S.A. (HI).
C | 2 | R1 | Antecaridina lauensis | Atyidae | Shrimp, anchialine pool | U.S.A. (HI), Mozambique, Saudi Arabia, Japan.
C | 2 | R1 | Calliasmata pholidota | Alpheidae | Shrimp, anchialine pool | U.S.A. (HI), Funafuti Atoll, Saudi Arabia, Sinai Peninsula, Tuvalu.
C | 2 | R1 | Palaemonella burnsi | Palaemonidae | Shrimp, anchialine pool | U.S.A. (HI).
C | 2 | R1 | Procaris hawaiana | Procarididae | Shrimp, anchialine pool | U.S.A. (HI).
C | 2 | R1 | Vetericaris chaceorum | Procaridae | Shrimp, anchialine pool | U.S.A. (HI).
C | 5 | R4 | Typhlatya monae | Atyidae | Shrimp, troglobitic groundwater | U.S.A. (PR), Barbuda, Dominican Republic.
Flowering Plants
C | 11 | R1 | Abronia alpina | Nyctaginaceae | Sand-verbena, Ramshaw Meadows | U.S.A. (CA).
C | 11 | R6 | Alicelia caespitosa | Polemoniaceae | Alice-flower, wonderland | U.S.A. (UT).
PE | N/A | R1 | Ambrosia pumila | Asteraceae | Ambrosia, San Diego | U.S.A. (CA), Mexico.
C | 11 | R4 | Arabis georgiana | Brassicaceae | Rockcress, Georgia | U.S.A. (AL, GA).
C | 11 | R4 | Argythamnia blodgettii | Euphorbiaceae | Silverbrush, Blodgett's | U.S.A. (FL).
C | 3 | R1 | Artemisia campestris var. wormskioldii | Asteraceae | Wormwood, northern | U.S.A. (OR, WA).
C | 2 | R1 | Astelia waialealae | Liliaceae | Pa`iniu | U.S.A. (HI).
C | 5 | R4 | Aster georgianus | Asteraceae | Aster, Georgia | U.S.A. (AL, FL, GA, NC, SC).
C | 8 | R6 | Astragalus equisolensis | Fabaceae | Milk-vetch, horseshoe | U.S.A. (UT).
C | 8 | R6 | Astragalus tortipes | Fabaceae | Milk-vetch, Sleeping Ute | U.S.A. (CO).
C | 5 | R1 | Bidens amplectens | Asteraceae | Ko`oko`olau | U.S.A. (HI).
C | 6 | R1 | Bidens campylotheca pentamera | Asteraceae | Ko`oko`olau | U.S.A. (HI).
C | 3 | R1 | Bidens campylotheca waihoiensis | Asteraceae | Ko`oko`olau | U.S.A. (HI).
C | 8 | R1 | Bidens conjuncta | Asteraceae | Ko`oko`olau | U.S.A. (HI).
C | 6 | R1 | Bidens micrantha ctenophylla | Asteraceae | Ko`oko`olau | U.S.A. (HI).
C | 5 | R4 | Brickellia mosieri | Asteraceae | Brickell-bush, Florida | U.S.A. (FL).
C | 5 | R1 | Calamagrostis expansa | Poaceae | Reedgrass, [unnamed] | U.S.A. (HI).
C | 5 | R1 | Calamagrostis hillebrandii | Poaceae | Reedgrass, [unnamed] | U.S.A. (HI).
C | 5 | R4 | Calliandra locoensis | Mimosaceae | No common name | U.S.A. (PR).
C | 2 | R1 | Calochortus persistens | Liliaceae | Mariposa lily, Siskiyou | U.S.A. (CA).
C | 5 | R4 | Calyptranthes estremerae | Myrtaceae | No common name | U.S.A. (PR).
C | 5 | R1 | Canavalia napaliensis | Fabaceae | `Awikiwiki | U.S.A. (HI).
C | 2 | R1 | Canavalia pubescens | Fabaceae | `Awikiwiki | U.S.A. (HI).
C | 8 | R6 | Castilleja aquariensis | Scrophulariaceae | Paintbrush, Aquarius | U.S.A. (UT).
C* | 11 | R1 | Castilleja christii | Scrophulariaceae | Paintbrush, Christ's | U.S.A. (ID).
C | 6 | R4 | Chamaecrista lineata keyensis | Fabaceae | Pea, Big Pine partridge | U.S.A. (FL).
C | 6 | R4 | Chamaesyce deltoidea pinetorum | Euphorbiaceae | Sandmat, pineland | U.S.A. (FL).
C | 6 | R4 | Chamaesyce deltoidea serpyllum | Euphorbiaceae | Spurge, wedge | U.S.A. (FL).
C | 5 | R1 | Chamaesyce eleanoriae | Euphorbiaceae | `Akoko | U.S.A. (HI).
C | 6 | R1 | Chamaesyce remyi var. remyi | Euphorbiaceae | `Akoko | U.S.A. (HI).
C | 6 | R1 | Chamaesyce remyi var. kauaiensis | Euphorbiaceae | `Akoko | U.S.A. (HI).
C | 5 | R1 | Charpentiera densiflora | Amaranthaceae | Papala | U.S.A. (HI).
C* | 3 | R1 | Chorizanthe parryi var. fernandina | Polygonaceae | Spineflower, San Fernando Valley | U.S.A. (CA).
C | 5 | R4 | Chromolaena frustrata | Asteraceae | Thoroughwort, Cape Sable | U.S.A. (FL).
C | 2 | R4 | Consolea corallicola | Cactaceae | Cactus, Florida semaphore | U.S.A. (FL).
C | 2 | R4 | Cordia rupicola | Boraginaceae | No common name | U.S.A. (PR), Anegada
C | 2 | R1 | Cyanea asplenifolia | Campanulaceae | Haha | U.S.A. (HI).
C | 5 | R1 | Cyanea calycina | Campanulaceae | Haha | U.S.A. (HI).
C | 2 | R1 | Cyanea eleeleensis | Campanulaceae | Haha | U.S.A. (HI).
C | 2 | R1 | Cyanea kuhihewa | Campanulaceae | Haha | U.S.A. (HI).
C | 5 | R1 | Cyanea kunthiana | Campanulaceae | Haha | U.S.A. (HI).
C | 5 | R1 | Cyanea lanceolata | Campanulaceae | Haha | U.S.A. (HI).
C | 2 | R1 | Cyanea obtusa | Campanulaceae | Haha | U.S.A. (HI).
C | 5 | R1 | Cyanea tritomantha | Campanulaceae | Haha | U.S.A. (HI).
C | 2 | R1 | Cyrtandra filipes | Gesneriaceae | Ha`iwale | U.S.A. (HI).
C | 5 | R1 | Cyrtandra kaulantha | Gesneriaceae | Ha`iwale | U.S.A. (HI).
C | 5 | R1 | Cyrtandra oenobarba | Gesneriaceae | Ha`iwale | U.S.A. (HI).
C | 2 | R1 | Cyrtandra oxybapha | Gesneriaceae | Ha`iwale | U.S.A. (HI).
C | 2 | R1 | Cyrtandra sessilis | Gesneriaceae | Ha`iwale | U.S.A. (HI).
C | 6 | R4 | Dalea carthagenensis floridana | Fabaceae | Prairie-clover, Florida | U.S.A. (FL).
C | 5 | R4 | Digitaria pauciflora | Poaceae | Crabgrass, Florida pineland | U.S.A. (FL).
C | 6 | R1 | Dubautia imbricata imbricata | Asteraceae | Na`ena`e | U.S.A. (HI).
C | 3 | R1 | Dubautia plantaginea magnifolia | Asteraceae | Na`ena`e | U.S.A. (HI).
C | 5 | R1 | Dubautia waialealae | Asteraceae | Na`ena`e | U.S.A. (HI).
C | 6 | R2 | Echinomastus erectocentrus var. acunensis | Cactaceae | Cactus, Acuna | U.S.A. (AZ), Mexico.
C | 11 | R1 | Erigeron basalticus | Asteraceae | Daisy, basalt | U.S.A. (WA).
C | 5 | R2 | Erigeron lemmonii | Asteraceae | Fleabane, Lemmon | U.S.A. (AZ).
C | 2 | R1 | Eriogonum codium | Polygonaceae | Buckwheat, Umtanum Desert | U.S.A. (WA).
C | 5 | R1 | Eriogonum kelloggii | Polygonaceae | Buckwheat, Red Mountain | U.S.A. (CA).
C | 5 | R1 | Festuca hawaiiensis | Poaceae | No common name | U.S.A. (HI).
C | 11 | R2 | Festuca ligulata | Poaceae | Fescue, Guadalupe | U.S.A. (TX), Mexico.
C | 5 | R1 | Gardenia remyi | Rubiaceae | Nanu | U.S.A. (HI).
C | 5 | R1 | Geranium hanaense | Geraniaceae | Nohoanu | U.S.A. (HI).
C | 8 | R1 | Geranium hillebrandii | Geraniaceae | Nohoanu | U.S.A. (HI).
C | 2 | R1 | Geranium kauaiense | Geraniaceae | Nohoanu | U.S.A. (HI).
C | 5 | R4 | Gonocalyx concolor | Ericaceae | No common name | U.S.A. (PR).
C | 5 | R1 | Hedyotis fluviatilis | Rubiaceae | Kampu`a | U.S.A. (HI).
C | 5 | R4 | Helianthus verticillatus | Asteraceae | Sunflower, whorled | U.S.A. (AL, GA, TN).
C | 5 | R2 | Hibiscus dasycalyx | Malvaceae | Rose-mallow, Neches River | U.S.A. (TX).
C | 6 | R4 | Indigofera mucronata keyensis | Fabaceae | Indigo, Florida | U.S.A. (FL).
C | 5 | R1 | Ivesia webberi | Rosaceae | Ivesia, Webber | U.S.A. (CA, NV).
C | 3 | R1 | Joinvillea ascendens ascendens | Joinvilleaceae | Ohe | U.S.A. (HI).
C | 5 | R1 | Korthalsella degeneri | Viscaceae | Hulumoa | U.S.A. (HI).
C | 5 | R1 | Labordia helleri | Loganiaceae | Kamakahala | U.S.A. (HI).
C | 5 | R1 | Labordia pumila | Loganiaceae | Kamakahala | U.S.A. (HI).
C | 5 | R1 | Lagenifera erici | Asteraceae | No common name | U.S.A. (HI).
C | 5 | R1 | Lagenifera helenae | Asteraceae | No common name | U.S.A. (HI).
C | 5 | R4 | Leavenworthia crassa | Brassicaceae | Gladecress, [unnamed] | U.S.A. (AL).
C | 2 | R2 | Leavenworthia texana | Brassicaceae | Gladecress, Texas golden | U.S.A. (TX).
C* | 2 | R1 | Lepidium papilliferum | Brassicaceae | Peppergrass, Slick spot | U.S.A. (ID).
C | 5 | R4 | Lesquerella globosa | Brassicaceae | Bladderpod, Short's | U.S.A. (IN, KY, TN).
C | 5 | R1 | Lesquerella tuplashensis | Brassicaceae | Bladderpod, White Bluffs | U.S.A. (WA).
PE | 3 | R1 | Limnanthes floccosa grandiflora | Limnanthaceae | Meadowfoam, large-flowered wooly | U.S.A. (OR).
C | 2 | R4 | Linum arenicola | Linaceae | Flax, sand | U.S.A. (FL).
C | 3 | R4 | Linum carteri carteri | Linaceae | Flax, Carter's small-flowered | U.S.A. (FL).
PE | 2 | R1 | Lomatium cookii | Apiaceae | Lomatium, Cook's | U.S.A. (OR).
C | 5 | R1 | Lysimachia daphnoides | Primulaceae | Makanoe lehua | U.S.A. (HI).
C | 5 | R1 | Melicope christophersenii | Rutaceae | Alani | U.S.A. (HI).
C | 2 | R1 | Melicope degeneri | Rutaceae | Alani | U.S.A. (HI).
C | 2 | R1 | Melicope hiiakae | Rutaceae | Alani | U.S.A. (HI).
C | 2 | R1 | Melicope makahae | Rutaceae | Alani | U.S.A. (HI).
C | 2 | R1 | Melicope paniculata | Rutaceae | Alani | U.S.A. (HI).
C | 5 | R1 | Melicope puberula | Rutaceae | Alani | U.S.A. (HI).
C | 5 | R1 | Myrsine fosbergii | Myrsinaceae | Kolea | U.S.A. (HI).
C | 2 | R1 | Myrsine mezii | Myrsinaceae | Kolea | U.S.A. (HI).
C | 5 | R1 | Myrsine vaccinioides | Myrsinaceae | Kolea | U.S.A. (HI).
C | 8 | R5 | Narthecium americanum | Liliaceae | Asphodel, bog | U.S.A. (DE, NC, NJ, NY, SC).
PE | 1 | R1 | Nesogenes rotensis | Verbenaceae | No common name | U.S.A. (MP).
C | 5 | R1 | Nothocestrum latifolium | Solanaceae | `Aiea | U.S.A. (HI).
C | 2 | R1 | Ochrosia haleakalae | Apocynaceae | Holei | U.S.A. (HI).
PE | 2 | R1 | Osmoxylon mariannense | Araliaceae | No common name | U.S.A. (MP).
C | 5 | R5 | Panicum hirstii | Poaceae | Panic grass, Hirst` | U.S.A. (DE, GA, NC, NJ).
C | 11 | R2 | Paronychia congesta | Caryophyllaceae | Whitlow-wort, bushy | U.S.A. (TX).
C | 6 | R2 | Pediocactus peeblesianus fickeiseniae | Cactaceae | Cactus, Fickeisen plains | U.S.A. (AZ).
C | 5 | R6 | Penstemon debilis | Scrophulariaceae | Beardtongue, Parachute | U.S.A. (CO).
C | 5 | R6 | Penstemon grahamii | Scrophulariaceae | Beardtongue, Graham | U.S.A. (CO, UT).
C* | 6 | R6 | Penstemon scariosus albifluvis | Scrophulariaceae | Beardtongue, White River | U.S.A. (CO, UT).
C | 2 | R1 | Peperomia subpetiolata | Piperaceae | `Ala `ala wai nui | U.S.A. (HI).
C | 11 | R6 | Phacelia submutica | Hydrophyllaceae | Phacelia, DeBeque | U.S.A. (CO).
C | 2 | R1 | Phyllostegia bracteata | Lamiaceae | No common name | U.S.A. (HI).
C | 5 | R1 | Phyllostegia floribunda | Lamiaceae | No common name | U.S.A. (HI).
C | 2 | R1 | Phyllostegia hispida | Lamiaceae | No common name | U.S.A. (HI).
C | 5 | R1 | Pittosporum napaliense | Pittosporaceae | Ho`awa | U.S.A. (HI).
C | 5 | R4 | Platanthera integrilabia | Orchidaceae | Orchid, white fringeless | U.S.A. (AL, GA, KY, MS, NC, SC, TN, VA).
C | 6 | R1 | Platydesma cornuta cornuta | Rutaceae | No common name | U.S.A. (HI).
C | 6 | R1 | Platydesma cornuta decurrens | Rutaceae | No common name | U.S.A. (HI).
C | 2 | R1 | Platydesma remyi | Rutaceae | No common name | U.S.A. (HI).
C | 5 | R1 | Platydesma rostrata | Rutaceae | Pilo kea lau li`i | U.S.A. (HI).
C | 5 | R1 | Pleomele forbesii | Agavaceae | Hala pepe | U.S.A. (HI).
PE | 2 | R1 | Polygonum hickmanii | Polygonaceae | Polygonum, Scotts Valley | U.S.A. (CA).
C | 5 | R1 | Potentilla basaltica | Rosaceae | Cinquefoil, Soldier Meadows | U.S.A. (NV).
C | 5 | R1 | Pritchardia hardyi | Asteraceae | Lo`ulu, (=Na`ena`e). | U.S.A. (HI).
C | 6 | R1 | Pseudognaphalium (=Gnaphalium) sandwicensium var molokaiense | Asteraceae | `Ena`ena | U.S.A. (HI).
C | 2 | R1 | Psychotria grandiflora | Rubiaceae | Kopiko | U.S.A. (HI).
C | 3 | R1 | Psychotria hexandra oahuensis | Rubiaceae | Kopiko | U.S.A. (HI).
C | 2 | R1 | Psychotria hobdyi | Rubiaceae | Kopiko | U.S.A. (HI).
C | 5 | R1 | Pteralyxia macrocarpa | Apocynaceae | Kaulu | U.S.A. (HI).
C | 5 | R1 | Ranunculus hawaiensis | Ranunculaceae | Makou | U.S.A. (HI).
C | 2 | R1 | Ranunculus mauiensis | Ranunculaceae | Makou | U.S.A. (HI).
C * | 2 | R1 | Rorippa subumbellata | Brassicaceae | Cress, Tahoe yellow | U.S.A. (CA, NV).
C | 2 | R1 | Schiedea attenuata | Caryophyllaceae | No common name | U.S.A. (HI).
C | 2 | R1 | Schiedea pubescens | Caryophyllaceae | Ma`oli`oli | U.S.A. (HI).
C | 2 | R1 | Schiedea salicaria | Caryophyllaceae | No common name | U.S.A. (HI).
C | 5 | R1 | Sedum eastwoodiae | Crassulaceae | Stonecrop, Red Mountain | U.S.A. (CA).
C | 5 | R1 | Sicyos macrophyllus | Cucurbitaceae | `Anunu | U.S.A. (HI).
C | 9 | R1 | Sidalcea hickmanii parishii | Malvaceae | Checkerbloom, Parish's | U.S.A. (CA).
C | 5 | R1 | Solanum nelsonii | Solanaceae | Popolo | U.S.A. (HI).
C | 2 | R1 | Stenogyne cranwelliae | Lamiaceae | No common name | U.S.A. (HI).
C | 2 | R1 | Stenogyne kealiae | Lamiaceae | No common name | U.S.A. (HI).
PE | 2 | R1 | Tabernaemontana rotensis | Apocynaceae | No common name | U.S.A. (GU, MP).
C | 2 | R1 | Zanthoxylum oahuense | Rutaceae | A`e | U.S.A. (HI).
Ferns and Allies
C* | 11 | R1 | Botrychium lineare | Ophioglossaceae | Moonwort, slender | U.S.A. (CA, CO, ID, MT, OR, WA), Canada (BC, NB, QC).
C | 6 | R1 | Cyclosorus boydiae boydiae | Thelypteridaceae | No common name | U.S.A. (HI).
C | 6 | R1 | Cyclosorus boydiae kipahuluensis | Thelypteridaceae | No common name | U.S.A. (HI).
C | 2 | R1 | Doryopteris takeuchii | Dryopteridaceae | No common name | U.S.A. (HI).
C | 2 | R1 | Dryopteris tenebrosa | Dryopteridaceae | No common name | U.S.A. (HI).
C | 2 | R1 | Microlepia mauiensis | Dennstaedtiaceae | No common name | U.S.A. (HI).
C | 2 | R1 | Phlegmariurus stemmermanniae | Lycopodiaceae | Wawae`iole | U.S.A. (HI).
¹ No data.

Table 2.—Former Candidate and Former Proposed Animals and Plants
Status: Code | Status: Expl | Lead region | Scientific name | Family | Common name | Historic range
Mammals
E | L | R1 | Sorex ornatus relictus | Soricidae | Shrew, Buena Vista Lake ornate | U.S.A. (CA).
Amphibians
E | L | R4 | Rana capito sevosa | Ranidae | Frog, Mississippi gopher (Wherever found west of Mobile and Tombigbee Rivers in AL, MS, and LA) | U.S.A. (AL, FL, LA, MS).
Fishes
E | L | R4 | Etheostoma chermocki | Percidae | Darter, vermilion | U.S.A. (AL).
Insects
Rc | I | R1 | Tinostoma smaragditis | Sphingidae | Moth, fabulous green sphinx | U.S.A. (HI).
Flowering Plants
E | L | R4 | Carex lutea | Cyperaceae | Sedge, golden | U.S.A. (NC).
E | L | R1 | Hackelia venusta | Boraginaceae | Stickseed, showy | U.S.A. (WA).
Rc | M | R1 | Pleomele fernaldii | Agavaceae | Hala pepe | U.S.A. (HI).
T | L | R6 | Yermo xanthocephalus | Asteraceae | Yellowhead, desert | U.S.A. (WY).

[FR Doc. 02-14963 Filed 6-12-02; 8:45 am]

BILLING CODE 4310-55-P